DEPARTMENT OF THE INTERIOR

Fish and Wildlife Service

50 CFR Part 32

RIN 1018-AF52

1999-2000 Refuge-Specific Hunting and Sport Fishing Regulations

AGENCY: Fish and Wildlife Service, Interior.

ACTION: Final rule.

SUMMARY: We are adding certain national wildlife refuges (refuges) to the list of areas open for hunting and/or sport fishing, along with pertinent refuge-specific regulations for such activities; and amend certain regulations on other refuges that pertain to migratory game bird hunting, upland game hunting, big game hunting, and sport fishing for the 1999-2000 season.

DATES: This rule is effective May 12, 2000.

FOR FURTHER INFORMATION CONTACT: Leslie A. Marler, (703) 358-2397; Fax (703) 358-2248.

SUPPLEMENTARY INFORMATION: The National Wildlife Refuge System Administration Act of 1966 (NWRSAA) closes national wildlife refuges to hunting and sport fishing until we open them by rulemaking. The Secretary of the Interior (Secretary) may open refuge areas to hunting and/or fishing upon a determination that such uses are compatible with the purposes of the refuge. The action also must be in accordance with provisions of all laws applicable to the areas, must be consistent with the principles of sound fish and wildlife management and administration, and otherwise must be in the public interest. These requirements ensure that we maintain the biological integrity, diversity, and environmental health of the National Wildlife Refuge System (System) for the benefit of present and future generations of Americans.

We review refuge hunting and fishing programs annually to determine whether to add additional refuges or whether individual refuge regulations governing existing programs need modifications, deletions, or additions made to them. Changing environmental conditions, State and Federal regulations, and other factors affecting wildlife populations and habitat may warrant modifications ensuring the continued compatibility of hunting and fishing programs and that these programs will not materially interfere with or detract from the fulfillment of the mission of the System or the purposes of the refuge.

You may find provisions governing hunting and fishing on national wildlife refuges in 50 CFR part 32. We regulate hunting and fishing on refuges to:

• Ensure compatibility;

• Properly manage the fish and wildlife resource;

• Protect other refuge values; and

• ensure refuge user safety.

On many refuges, our general policy of adopting regulations identical to State hunting and fishing regulations is adequate in meeting these objectives. On other refuges, it is necessary to supplement State regulations with more restrictive Federal regulations to ensure that we meet our management responsibilities, as outlined under the section entitled “Statutory Authority.” We issue refuge-specific hunting and fishing regulations when we open wildlife refuges to either migratory game bird hunting, upland game hunting, big game hunting, or sport fishing. These regulations list the wildlife species that you may hunt or those species subject to sport fishing, seasons, bag limits, methods of hunting or fishing, descriptions of open areas, and other provisions as appropriate. You may find previously issued, refuge-specific regulations for hunting and fishing in 50 CFR part 32. We are promulgating many of the amendments to these sections to standardize and clarify the existing language of these regulations.

Some refuges may make seasonal information available in brochures or leaflets to supplement these refuge-specific regulations, which we provide for in 50 CFR 25.31.

We are making several corrections to 50 CFR:

• In 50 CFR 32.71 Pacific Islands Territory, we are changing the section heading to read “United States unincorporated Pacific insular possessions” with two refuges: Johnston Atoll National Wildlife Refuge and Midway Atoll National Wildlife Refuge. We moved Kilauea Point National Wildlife Refuge to Hawaii (§ 32.30), and we moved Guam National Wildlife Refuge to a new section § 32.72 Guam.

• We are eliminating redundant refuge-specific regulations for Ohio River National Wildlife Refuge that we currently list in the States of Pennsylvania, West Virginia and Kentucky. We will list Ohio River National Wildlife Refuge in West Virginia. Pennsylvania and Kentucky will refer the reader to West Virginia for refuge-specific regulations.

Plain Language Mandate

In this rule the vast majority of the revisions to the individual refuge units are to comply with a Presidential mandate to use plain language in regulations and do not modify the substance of the previous restrictions. These types of changes include using “you” to refer to the reader and “we” to refer to the Service and using the word “allow” instead of “permit” when we do not require the use of a permit for an activity. Only a handful of refuge-specific regulations contain the substantive changes discussed below.

Use of Only Approved Nontoxic Shot

In 50 CFR part 32, we provide for the prohibition of the possession of toxic shot in the field on Waterfowl Production Areas (WPAs) and certain other areas (refuges or areas within refuges) of the System. We delineated these areas on maps, leaflets, and/or signs (available at each refuge headquarters or posted at each refuge) or as stated in refuge-specific regulations. Where we allow turkey and deer hunting, you may use slugs and shot containing lead to hunt these species unless prohibited by refuge-specific regulations and/or State law.

We specifically identify the shot allowed in areas of the System by reference to the shot identified in 50 CFR 20.21(j). We sometimes grant new shot types conditional approvals until we complete all necessary studies. These conditional approvals change yearly, and we add new shot types to our approved list as they meet our criteria. To avoid any confusion, we amend § 32.2 What are the general provisions regarding hunting on areas of the National Wildlife Refuge System? to state that you may possess only “approved” nontoxic shot in the field which we identify in 50 CFR 20.21(j), while on Waterfowl Production Areas or on certain other areas of the National Wildlife Refuge System. We also amend affected refuges listed in Subpart B.—“ Refuge-Specific Regulations for Hunting and Fishing to reflect that hunters may possess only approved nontoxic shot while in the field. We removed any reference to “use” of nontoxic shot to be consistent with 50 CFR 20.21(j).

Establishment of Lead-Free Fishing Areas

We will not be making a decision on the establishment of lead-free fishing areas in this final rule. We will address this issue in a separate final rule at a later date.

Response to Comments Received

In the August 11, 1999, issue of the Federal Register (64 FR 43834) we published a proposed rulemaking identifying the refuges and their proposed hunting and/or fishing programs and invited public comments. We reviewed and considered all substantive comments following a 30-day public comment period.

In all we received 37 comments from the proposed rule: 1 State conservation agency; 4 non-government organizations; and 32 individuals. Nearly all the comments were concerning refuges allowing hunting. We addressed multiple comments from some commenters individually.

Comment: 32 commenters expressed their opposition to the proposal to open additional refuges to hunting and/or fishing or to the existing refuges open to hunting and/or fishing.

Response: The National Wildlife Refuge System Administration Act authorizes permitting any compatible uses on refuges and specifically includes hunting. The principal focus of the National Wildlife Refuge System Improvement Act of 1997 (NWRSIA), which amended the NWRSAA, was to clearly establish a wildlife conservation mission for the System and provide managers clear direction and procedures for making determinations regarding wildlife conservation and public uses within the areas of the System. When Congress passed the NWRSIA, it reaffirmed that the System was created to conserve fish, wildlife, and plants and their habitats; and that this had been facilitated by providing Americans opportunities to participate in compatible wildlife-dependent recreation, including hunting and/or fishing on System areas. The NWRSIA establishes six wildlife-dependent recreational uses as the priority general public uses of the Refuge System where compatible. Those priority uses are: hunting, fishing, wildlife observation, wildlife photography, environmental education, and interpretation. The Act directs the Secretary to facilitate those uses.

Comment: We received a comment suggesting that we more fully describe in our SUPPLEMENTARY INFORMATION section that “the opening of these new areas is beneficial in terms of offering valuable additional recreational opportunities to sportsmen .....[and] consistent with the purposes of the National Wildlife Refuge System and the National Wildlife Refuge System Improvement Act of 1997 ...”

Response: We have described the ramifications of the NWRSIA in the Statutory Authority section of the SUPPLEMENTARY INFORMATION section.

Comment: One commenter questioned the opening of Bayou Teche National Wildlife Refuge in Louisiana to migratory bird, upland game, and big game hunting as the Refuge “has not yet been created.”

Response: We proposed the opening of Bayou Teche National Wildlife Refuge in anticipation of the completion of the acquisition process by the time we would publish the final rule. We are still finalizing this process and will remove the refuge opening from this rule.

Comment: We received one comment from a State fish and game authority requesting that we coordinate closely with them on proposing any limitations to our hunting and fishing programs.

Response: We will do so. Our refuge managers and regional staffs will be in close contact with those State officials that are in or supervise State programs in the areas listed in this rule.

Comment: One commenter expressed concern that we are expanding hunting programs in the absence of adequate scientific data on the wildlife populations affected. Another commenter questioned if adequate funding levels are available to initiate the proposed hunts.

Response: The quote the commenter cited was from the Fulfilling the Promise: Serving Wildlife, Habtat and People through Effective Leadership (2nd draft, September 18, 1998) document, and the “absence of adequate scientific data” statement refers to wildlife disturbance issues, i.e., non-consumptive uses such as developing new trails, etc. We do not expand our hunting programs without examining the ramifications on the affected wildlife populations. For example, in the case of migratory bird hunting, our primary responsibility in the annual promulgation of hunting regulations is to ensure the continued health of migratory game bird populations. This process involves consideration of extensive national and international survey results, technical advice from our staff and States in all major migration routes, and other public input in the development of reasonable and appropriate regulatory recommendations, such as seasons and bag limits, each year. More recently, we have used an adaptive approach to develop harvest regulations. This approach fosters a regulatory process in the United States that improves our ability to predict the impact regulations have on bird populations, maximizes harvest, and at the same time, conserves the migratory bird resource over the long term.

Funding is just one of the factors that we consider when applying sound professional judgment as part of determining compatibility for hunting programs.

Comment: A commenter felt that “Because state regulations will govern all aspects of the hunting programs not covered by the Refuge-specific regulations, the rule will clearly transfer authority for managing federal lands to the states.”

Response: We disagree. We do not transfer authority to the States, but rather make a decision as to whether State regulations are sufficient for our management needs.

State regulations do not govern all aspects of our hunting programs, rather we work in partnership with the States. For example, with migratory bird hunting, the States step down Federal harvest and implementation regulations for establishing hunting seasons and bag limits. In turn, we evaluate State regulations based on local population surveys and adjust our hunting seasons and bag limits accordingly. When evaluating the State regulations, if we need provide no further restrictions, then we adopt regulations identical to the State regulations. On some refuges it may be necessary to supplement the State regulations with more restrictive Federal regulations to ensure that we meet our management responsibilities as outlined under the section entitled “Statutory Authority” in the rule.

Comment: A commenter offered some changes to the language in 50 CFR 32.24, California (affecting Colusa, Delevan, Sacramento, and Sutter National Wildlife Refuges) regarding the use of portable gas stoves. They suggest that we modify the language to say: “No person will build or maintain fires, except in refuge parking lots and in portable gas stoves or other portable metal devices made specifically for burning.” In the same section, they feel the public could interpret our prohibition of use of “ * * * bicycles and other conveyances” to include wheelchairs and other devices necessary for the mobility impaired.

Response: The use of fires is largely inconsistent with the operation of public waterfowl hunting programs at national wildlife refuges and also in their associated confined parking lots. We believe that open fires in the parking lots are a camping-related activity. Overnight camping has been a major issue in the past at all four refuges, and we do not allow it. Authorizing the use of other portable metal devices made for burning (like barbeques or wood-burning burn barrels) is not, in our opinion, consistent with the operation of this refuge waterfowl hunt program. The proposed regulation is simple, to the point, and consistent with the plain language mandate and the intent of the NWRSIA. We agree with the suggestion for clarification of the language dealing with improving access for the mobility impaired on System lands. The Service and the California Department of Fish and Game have developed and implemented “Reasonable Accommodation Procedures for Mobility Impaired Hunters—Sacramento National Wildlife Refuge Complex,” which allows access for mobility-impaired hunters. We will modify 50 CFR 32.24 for Colusa, Delevan, Sacramento, and Sutter National Wildlife Refuges in California to read as follows: “We do not allow bicycles and other conveyances. Mobility-impaired hunters should consult with the Refuge Manager for allowed conveyances.”

Comment: A commenter asked if it is possible to open surf/bay fishing at Laguna Atascosa National Wildlife Refuge in Texas.

Response: At present, we prohibit fishing and/or fishing access on the existing refuge to avoid wildlife disturbance. Migratory ducks, shorebirds, and wading birds are the species targeted for protection by this closure. The threatened piping plover is one species of particular interest protected by this fishing closure. This closure includes all bank fishing access along the refuge's Laguna Madre shoreline. However, we do allow boat access for boat fishing and wade fishing. Other wetlands affected by this closure include the Laguna Atascosa Lake, the Cayo Atascoso (a stream that flows into and out of the lake), and the Arroyo Colorado (a public stream that flows through the refuge). Dolph Thomae Jr. County Park on the Arroyo Colorado allows pier fishing, boat launching, etc., for the public. We manage this county park as part of refuge lands under a written Memorandum of Understanding.

Comment: One commenter felt we did not afford the public a meaningful opportunity to comment on the proposal.

Response: We provided the public a 30-day period to comment on the August 11, 1999 proposed rule. The Refuge-Specific Hunting and Sport Fishing Regulations are an annual process with the proposed rule published each summer with 30-day comment period. There is nothing contained in this annual regulation outside of the scope of the annual review process where we add refuges or determine whether individual refuge regulations need modifications, deletions, or additions made to them. As we stated in the proposed rule, by allowing a 30-day comment period, we are trying to avoid jeopardizing the establishment of hunting and fishing programs this year (two of the six priority uses established by the NWRSIA) or shortening their duration. Many of these rules also relieve restrictions and allow the public to participate in recreational activities on a number of refuges. Even after issuance of a final rule we accept comments, suggestions and concerns for consideration for any appropriate subsequent rulemaking.

Effective Date

This rule is effective upon publication. We have determined that any further delay in implementing these refuge-specific hunting and sport fishing regulations would not be in the public interest in that a delay would hinder the effective planning and administration of the hunting and fishing programs. We provided a 30-day comment period for the August 11, 1999 proposed rule. An additional 30-day delay would jeopardize holding the hunting and/or fishing programs this year or shorten their duration and thereby lessen the management effectiveness of this regulation. Therefore, we find good cause under 5 U.S.C. 553(d) to make this rule effective upon publication.

Statutory Authority

The National Wildlife Refuge System Administration Act (NWRSAA) of 1966 as amended by the National Wildlife Refuge System Improvement Act of 1997 (16 U.S.C. 668dd-668ee) and the Refuge Recreation Act (RRA) of 1962 (16 U.S.C. 460k-460k-4), govern the administration and public use of national wildlife refuges.

The National Wildlife Refuge System Improvement Act (NWRSIA) is the latest amendment to the NWRSAA. It amends and builds upon the NWRSAA in a manner that provides an improved “Organic Act” for the Refuge System similar to those that exist for other public lands. It serves to ensure that we effectively manage the System as a national system of lands, waters, and interests for the protection and conservation of our nation's wildlife resources. The NWRSAA states first and foremost that we focus the mission of the System on conservation of fish, wildlife, and plant resources and their habitat. This Act requires the Secretary, before initiating or permitting a new use of a refuge, or before expanding, renewing, or extending an existing use of a refuge, to determine that the use is a compatible use and not inconsistent with public safety. The NWRSIA establishes as the policy of the United States that wildlife-dependent recreation, when it is compatible, is a legitimate and appropriate public use of the Refuge System, through which the American public can develop an appreciation for fish and wildlife. The NWRSIA establishes six compatible wildlife-dependent recreational uses as the priority general public uses of the Refuge System. Those priority uses are: hunting, fishing, wildlife observation, wildlife photography, environmental education, and interpretation.

The RRA authorizes the Secretary to administer areas within the System for public recreation as an appropriate incidental or secondary use only to the extent that it is practicable and not inconsistent with the primary purpose(s) for which we established the areas. This Act requires that any recreational use of refuge lands be compatible with the primary purposes for which we established the refuge and not inconsistent with other previously authorized operations.

The NWRSAA and RRA also authorize the Secretary to issue regulations to carry out the purposes of the Acts and regulate uses.

We develop hunting and sport fishing plans for each existing refuge prior to opening it to hunting or fishing. In many cases, we develop refuge-specific regulations to ensure the compatibility of the programs with the purposes for which we established the refuge. We have ensured initial compliance with the NWRSAA and the RRA for hunting and sport fishing on newly acquired refuges through an interim determination of compatibility made at the time of acquisition. This policy ensures that we make the determinations required by these acts prior to adding refuges to the lists of areas open to hunting and fishing in 50 CFR part 32. We ensure continued compliance by the development of Comprehensive Conservation Plans, long-term hunting and sport fishing plans, and by annual review of hunting and sport fishing programs and regulations.

In preparation for new openings, we include the following documents in the refuges' “openings package” for Regional review and approval from the Washington Office: an interim hunting and fishing management plan; a Section 7 determination pursuant to the Endangered Species Act that these openings will have no effect, or are not likely to have an adverse effect, on listed species or critical habitats; a letter of concurrence from the affected State; interim compatibility determinations; and refuge-specific regulations to administer the hunting and/or fishing programs. Upon review of these documents, we have determined that the opening of these national wildlife refuges to hunting and fishing is compatible with the principles of sound fish and wildlife management and administration and otherwise will be in the public interest.

We allow the following wildlife-dependent recreational activities for the first time:

Hunting of migratory game birds:

• Currituck National Wildlife Refuge, North Carolina

• Julia Butler Hansen Refuge for the Columbian White-Tailed Deer, Oregon

• Plum Tree Island National Wildlife Refuge, Virginia

St. Croix Wetland Management District, Wisconsin

Big game hunting on:

• Bond Swamp National Wildlife Refuge, Georgia

• St. Croix Wetland Management District, Wisconsin

Upland game hunting on:

• St. Croix Wetland Management District, Wisconsin

Sport fishing on:

• Bond Swamp National Wildlife Refuge, Georgia

• J. Clark Salyer National Wildlife Refuge, North Dakota

• Tewaukon National Wildlife Refuge, North Dakota

• Stewart Lake National Wildlife Refuge, North Dakota

• Upper Souris National Wildlife Refuge, North Dakota

• Julia Butler Hansen Refuge for the Columbian White-Tailed Deer, Oregon

• Willapa National Wildlife Refuge, Oregon

• ACE Basin National Wildlife Refuge, South Carolina

In accordance with NWRSAA and the RRA, we have determined that these openings are compatible and consistent with the primary purposes for which we established the refuge.

Need for This Regulation

We are adding refuges to the list of areas open for hunting and/or sport fishing, along with pertinent refuge-specific regulations for such activities. We amend certain regulations for other refuges that pertain to migratory game bird hunting, upland game hunting, big game hunting, and sport fishing for the 1999-2000 season. On many refuges, our policy of adopting regulations identical to State regulations is adequate in meeting National Wildlife Refuge System objectives. On other refuges, it is necessary to supplement State regulations with more restrictive Federal regulations to ensure that we meet our management responsibilities, as outlined under the section entitled “Statutory Authority” in the rule. We issue refuge-specific regulations when opening a national wildlife refuge or modifying the various uses of a refuge, and for all hunting or sport fishing. These regulations list the prohibited uses, limited uses, and those activities that are available without restriction. They also list those wildlife species that you may hunt or fish for along with the respective seasons, bag limits, methods of hunting or fishing, descriptions of open areas, and other provisions as appropriate. We promulgate many of the amendments here to provide greater restriction and clarify the existing regulation language, which should result in fewer violations of refuge regulations.

Regulatory Planning and Review

This document is not a significant rule subject to Office of Management and Budget review under Executive Order 12866. See explanation under Regulatory Flexibility Act.

a. This rule will not have an annual economic effect of $100 million or adversely affect an economic sector, productivity, jobs, the environment, or other units of government. A cost-benefit and economic analysis is not required. This rule is administrative, legal, technical, and procedural in nature and makes minor modification to existing refuge public use programs. The rule will allow hunting on five refuges where we had prohibited hunting and allow fishing on eight refuges where we had prohibited that activity. We estimate that these changes will result in 11,900 additional visitor-hunting-days and 165,300 visitor-fishing-days. The appropriate measure for the net benefits of these changes is the additional net economic value experienced by the participants. The 1996 National Survey of Fishing, Hunting, and Wildlife-Associated Recreation measured net economic values by activity and region. Applying these estimates to the number of additional activity-days permitted by this rule yields an estimate of the national benefits from increased hunting of $160,000 and from increased fishing of $2.6 million. These estimates are below the threshold for a significant rule.

The addition of the term “approved” to the nontoxic shot regulations is for clarification purposes, and we do not expect it to affect hunters' behavior. It has no economic effects.

b. This rule will not create inconsistencies with other agencies' actions. We coordinate recreational use on national wildlife refuges with State governments as well as other Federal agencies having adjoining or overlapping jurisdiction before proposing regulations. The regulation is consistent with, and not less restrictive than, other agencies' rules.

c. This rule will not materially affect entitlements, grants, user fees, loan programs, or the rights and obligations of their recipients. The provisions of this rule only apply to persons involved in wildlife-dependent public use including regulated hunting and sport fishing on national wildlife refuges, which is a privilege and not a right. User fees will not change as a result of this rule.

d. This rule will not raise novel legal or policy issues. This rule continues the practice of requiring public use of refuges to be compatible with the primary purpose of the refuge.

Regulatory Flexibility Act

The Department of the Interior certifies that this rule will not have a significant economic effect on a substantial number of small entities such as businesses, organizations, and governmental jurisdictions in the area as defined under the Regulatory Flexibility Act (5 U.S.C. 601 et seq.). A final Regulatory Flexibility Analysis is not attached, and a Small Entity Compliance Guide is not required.

This rulemaking will not have a significant economic impact on a substantial number of small entities. Congress created the National Wildlife Refuge System to conserve fish, wildlife, and plants and their habitats. They facilitated this conservation mission by providing Americans opportunities to visit and participate in compatible wildlife-dependent recreation, including hunting, fishing, wildlife observation and photography, and environmental education and interpretation as priority public uses on national wildlife refuges and to better appreciate the value of, and need for, fish and wildlife conservation.

For most units within the National Wildlife Refuge System, this rule is administrative, legal, technical, and procedural in nature and provides for minor changes to the methods of hunting and fishing permitted but does not stop the overall use permitted. For most units, this rule will not change the number of visitors using refuges or their spending and, therefore, will have no impact on the local economies in their vicinity.

We open five units to hunting and eight units to fishing for the first time. Data from the 1996 National Survey of Fishing, Hunting, and Wildlife-Associated Recreation provides estimates of spending per day for each activity in each of our regions. Multiplying spending per activity day by the number of activity days expected at each unit yields an estimate of the total spending related to the regulation. As much of this spending would have occurred at other sites in the local region absent the regulation, this estimate does not represent increased economic activity but economic activity related to the new recreational opportunities. We estimate the additional hunting opportunities will result in 11,900 visitor-hunting-days on the newly opened units. This hunting will entail $302,000 in trip-related expenditures by hunters. We estimate the additional fishing opportunities will result in 165,300 visitor-fishing-days and $9.3 million in spending. Upper Souris National Wildlife Refuge and J. Clark Salyer National Wildlife Refuge account for 90,000 of the increased fishing days so we expect $5.4 million of the related spending in the Minot, North Dakota area. As small businesses are a significant portion of the sporting goods industry, much of this economic activity will flow to small entities. However, the rule will not have a significant economic effect on a substantial number of small entities as defined in the Act.

Small Business Regulatory Enforcement Fairness Act

This rule is not a major rule under 5 U.S.C. 804(2), the Small Business Regulatory Enforcement Fairness Act, as discussed in the Regulatory Planning and Review section above. This rule:

a. Does not have an annual effect on the economy of $100 million or more;

b. Will not cause a major increase in costs or prices for consumers, individual industries, Federal, State, or local government agencies, or geographic regions; or

c. Does not have significant adverse effects on competition, employment, investment, productivity, innovation, or the ability of U.S.-based enterprises to compete with foreign-based enterprises.

Unfunded Mandates Reform Act

Since this rule applies to public use of federally owned and managed refuges, it does not impose an unfunded mandate on State, local, or tribal governments or the private sector of more than $100 million per year. The rule does not have a significant or unique effect on State, local, or tribal governments or the private sector. A statement containing the information required by the Unfunded Mandates Reform Act (2 U.S.C. 1531 et seq.) is not required.

Takings (Executive Order 12630)

In accordance with Executive Order 12630, the rule does not have significant takings implications. This regulation will affect only visitors at national wildlife refuges and limit what they can do while they are on a refuge.

Federalism (Executive Order 13152)

As discussed in the Regulatory Planning and Review and Unfunded Mandates Act sections above, this rule does not have sufficient federalism implications to warrant the preparation of a Federalism Assessment under Executive Order 13152.

Civil Justice Reform (Executive Order 12988)

In accordance with Executive Order 12988, the Office of the Solicitor has determined that the rule does not unduly burden the judicial system and meets the requirements of sections 3(a) and 3(b)(2) of the Order. The regulation will clarify established regulations and result in better understanding of the regulations by refuge visitors.

Paperwork Reduction Act

This regulation does not contain any information collection requirements other than that already approved by the Office of Management and Budget under the Paperwork Reduction Act. See 50 CFR 25.23 for information concerning that approval.

Section 7 Consultation

In preparation for new openings, we include Section 7 consultation documents in the refuge's “openings package” for Regional review and approval from the Washington Office. We reviewed the changes in hunting and fishing herein with regard to Section 7 of the Endangered Species Act of 1973 (16 U.S.C. 1531-1543) and find the actions are not likely to adversely affect the continued existence of any endangered species or threatened species or result in the destruction or adverse modification of habitat of such species within the System since the rule is primarily administrative, legal, technical, or procedural in nature and/or makes minor modifications to existing public use programs. We comply with Section 7 of the Endangered Species Act of 1973 (16 U.S.C. 1531-1543) when developing Comprehensive Conservation Plans, management plans for public use of refuges, and prior to implementing any new or revised public recreation program on a refuge as identified in 50 CFR 26.32. We also make determinations required by the Endangered Species Act on a case-by-case basis before the addition of a refuge to the lists of areas open to hunting or fishing as contained in 50 CFR 32.7.

National Environmental Policy Act

We analyzed this rule in accordance with the criteria of the National Environmental Policy Act of 1969 (NEPA) (42 U.S.C. 4332(C)) and 318 DM 2.2(g) and 6.3(D). This rule does not constitute a major Federal action significantly affecting the quality of the human environment. An environmental impact statement/assessment is not required.

A categorical exclusion from NEPA documentation covers this amendment of refuge-specific hunting and fishing regulations since it is technical and procedural in nature, and the environmental effects are too broad, speculative, or conjectural to lend themselves to meaningful analysis (516 DM 2, Appendix 1.10).

Prior to the addition of a refuge to the list of areas open to hunting and fishing in 50 CFR part 32, we develop hunting and fishing plans for the affected refuges. We incorporate these proposed refuge hunting and fishing activities in the refuge Comprehensive Conservation Plans and/or step-down management plans, pursuant to our refuge planning guidance in 602 FW 1-3. We prepare these plans in compliance with section 102(2)(C) of NEPA, and the Council on Environmental Quality's regulations for implementing NEPA in 40 CFR parts 1500-1508. We invite the affected public to participate in the review, development, and implementation of these plans.

We have also prepared several related environmental analyses, such as lead shot vs. nontoxic shot as it relates to waterfowl and other wildlife with the most recent Environmental Assessment (EA) in May, 1998.

Available Information for Specific Refuges

Individual refuge headquarters retain information regarding public use programs and the conditions that apply to their specific programs and maps of their respective areas. You may also obtain information from the regional offices at the addresses listed below:

Region 1—California, Hawaii, Idaho, Nevada, Oregon, and Washington. Assistant Regional Director—Refuges and Wildlife, U.S. Fish and Wildlife Service, Eastside Federal Complex, Suite 1692, 911 N.E. 11th Avenue, Portland, Oregon 97232-4181; Telephone (503) 231-6214.

Region 2—Arizona, New Mexico, Oklahoma, and Texas. Assistant Regional Director—Refuges and Wildlife, U.S. Fish and Wildlife Service, Box 1306, Albuquerque, New Mexico 87103; Telephone (505) 766-1829.

Region 3—Illinois, Indiana, Iowa, Michigan, Minnesota, Missouri, Ohio, and Wisconsin. Assistant Regional Director—Refuges and Wildlife, U.S. Fish and Wildlife Service, Federal Building, Fort Snelling, Twin Cities, Minnesota 55111; Telephone (612)-713-5300.

Region 4—Alabama, Arkansas, Florida, Georgia, Kentucky, Louisiana, Mississippi, North Carolina, Tennessee, South Carolina, Puerto Rico, and the Virgin Islands. Assistant Regional Director—Refuges and Wildlife, U.S. Fish and Wildlife Service, 1875 Century Boulevard, Room 324, Atlanta, Georgia 30345; Telephone (404) 679-7152.

Region 5—Connecticut, Delaware, District of Columbia, Maine, Maryland, Massachusetts, New Hampshire, New Jersey, New York, Pennsylvania, Rhode Island, Vermont, Virginia, and West Virginia. Assistant Regional Director—Refuges and Wildlife, U.S. Fish and Wildlife Service, 300 Westgate Center Drive, Hadley, Massachusetts 01035-9589; Telephone (413) 253-8550.

Region 6—Colorado, Kansas, Montana, Nebraska, North Dakota, South Dakota, Utah, and Wyoming. Assistant Regional Director—Refuges and Wildlife, U.S. Fish and Wildlife Service, Box 25486, Denver Federal Center, Denver, Colorado 80225; Telephone (303) 236-8145.

Region 7—Alaska. Assistant Regional Director—Refuges and Wildlife, U.S. Fish and Wildlife Service, 1011 E. Tudor Rd., Anchorage, Alaska 99503; Telephone (907) 786-3545.

Primary Author. Leslie A. Marler, Management Analyst, Division of Refuges, U.S. Fish and Wildlife Service, Washington, DC 20240, is the primary author of this rulemaking document.

List of Subjects in 50 CFR Part 32

Fishing, Hunting, Reporting and recordkeeping requirements, Wildlife, Wildlife refuges.

For the reasons set forth in the preamble, we amend title 50, chapter I, subchapter C of the Code of Federal Regulations as follows:

PART 32—[AMENDED]

1. By revising the authority citation for part 32 to read as follows:

Authority: 5 U.S.C. 301; 16 U.S.C. 460k, 664, 668dd-668ee, and 715i.

2. In § 32.2, by revising the section heading and paragraph (k) to read as follows:

§ 32.2 What are the general provisions regarding hunting on areas of the National Wildlife Refuge System?

* * * * *

(k) You may possess only approved nontoxic shot while in the field, which we identify in 50 CFR 20.21(j), while on Waterfowl Production Areas, or on certain other areas of the National Wildlife Refuge System as delineated on maps, leaflets and/or signs, available at each refuge headquarters or posted at each refuge, or as stated in refuge-specific regulations. Where we allow turkey and deer hunting, you may use slugs and shot containing lead to hunt these species unless prohibited by refuge-specific regulations and/or State law.

3. In § 32.7 by:

a. Revising the section heading and removing the listing of “Cossatot National Wildlife Refuge” and by alphabetically adding “Pond Creek National Wildlife Refuge” in the State of Arkansas;

b. Alphabetically adding the listing “Bond Swamp National Wildlife Refuge” in the State of Georgia;

c. Alphabetically adding the listing of “Kilauea Point National Wildlife Refuge” in the State of Hawaii;

d. Alphabetically adding the listing of “Currituck National Wildlife Refuge” in the State of North Carolina;

e. Alphabetically adding the listing of “Stewart Lake National Wildlife Refuge” in the State of North Dakota;

f. Removing the listing of “Baskett Slough National Wildlife Refuge” and by alphabetically adding the listing “Julia Butler Hansen Refuge for the Columbian White-Tailed Deer” in the State of Oregon;

g. Alphabetically adding the listing “Plum Tree Island National Wildlife Refuge” in the State of Virginia;

h. Alphabetically adding the listing “St. Croix Wetland Management District” in the State of Wisconsin;

i. Revising “Pacific Island Territories” to read “United States Unincorporated Pacific Insular Possessions” and removing the listing “Guam National Wildlife Refuge;” and

j. By alphabetically adding a new listing for “Guam” The revisions read as follows:

§ 32.7 What refuge units are open to hunting and/or fishing?

* * * * *

Guam

Guam National Wildlife Refuge.

* * * * *

4. In § 32.20 Alabama by revising Wheeler National Wildlife Refuge to read as follows:

§ 32.20 Alabama.

* * * * *

Wheeler National Wildlife Refuge

A. Hunting of Migratory Game Birds. [Reserved]

B. Upland Game Hunting. We allow hunting of quail, squirrel, rabbit, raccoon, and opossum on designated areas of the refuge subject to the following condition: We require permits.

C. Big Game Hunting. We allow hunting of white-tailed deer on designated areas of the refuge subject to the following condition: We require permits.

D. Sport Fishing. We allow fishing on designated areas of the refuge subject to the following conditions:

1. We do not allow bank fishing around the shoreline of the refuge headquarters.

2. All other refuge waters are open to fishing year-round unless otherwise posted.

3. We prohibit entry and use of airboats and hovercraft on all waters within the refuge boundaries.

4. We prohibit entry and use of inboard waterthrust boats, such as but not limited to personal watercraft, watercycles, and waterbikes on all waters of the refuge except that portion of the Tennessee River and Flint Creek from its mouth to mile-marker three.

5. You may not leave boats on the refuge overnight.

5. In § 32.22 Arizona by:

a. Revising Bill Williams River National Wildlife Refuge and Cibola National Wildlife Refuge;

b. Revising paragraphs A.3. and B.4. of Havasu National Wildlife Refuge; and

c. Revising paragraphs A.3. and B.2. of Imperial National Wildlife Refuge to read as follows:

§ 32.22 Arizona.

* * * * *

Bill Williams River National Wildlife Refuge

A. Hunting of Migratory Game Birds. We allow hunting of mourning and white-winged doves on designated areas of the refuge subject to the following condition: We allow only shotguns.

B. Upland Game Hunting. We allow hunting of quail and cottontail rabbit on designated areas of the refuge subject to the following conditions:

1. You may possess only approved nontoxic shot while in the field.

2. We allow only shotguns.

3. We allow hunting of cottontail rabbits from September 1 to the close of the State quail season.

C. Big Game Hunting. We allow hunting of desert bighorn sheep on designated areas of the refuge.

D. Sport Fishing. We allow sport fishing in designated areas.

* * * * *

Cibola National Wildlife Refuge

A. Hunting of Migratory Game Birds. We allow hunting of geese, ducks, coots, moorhens, common snipe, mourning and white-winged dove on designated areas of the refuge subject to the following conditions:

1. We allow only shotguns.

2. Waterfowl and snipe hunters may possess only approved nontoxic shot while in the field.

3. You must pay a hunt fee in portions of the refuge. Consult refuge hunting leaflet for locations.

4. We do not allow pit or permanent blinds.

5. Hunting in Farm Unit 2 closes at 12:00 p.m. each day. Consult refuge hunting leaflet for refuge-specific regulations and location.

6. We close Farm Unit 2 to all hunting except waterfowl hunting during the Arizona waterfowl season.

7. You must remove all temporary blinds, boats, and decoys from the refuge following each day's hunt.

8. We do not allow hunting within 50 yards (45 m) of any public road.

9. The Hart Mine Marsh area is open to hunting from 10:00 a.m. to 3:00 p.m. daily during goose season.

10. The area known as Pretty Water is open to waterfowl hunting from ½ hour before sunrise to 3:00 p.m. during the Arizona and California waterfowl hunting seasons.

B. Upland Game Hunting. We allow hunting of quail and cottontail rabbit on designated areas of the refuge subject to the following conditions:

1. We allow only shotguns and bows and arrows.

2. You may possess only approved nontoxic shot while in the field.

3. You may hunt cottontail rabbit from September 1 through the last day of the respective State's quail season.

4. During the Arizona waterfowl season, you may not hunt quail and rabbit in Farm Unit 2.

5. You may not hunt within 50 yards (45 m) of any public road.

C. Big Game Hunting. We allow hunting of mule deer on designated areas of the refuge subject to the following conditions:

1. During the Arizona waterfowl season, you may not hunt mule deer in Farm Unit 2.

2. You may not hunt within 50 yards (45 m) of any public road.

D. Sport Fishing. We allow sport fishing and frogging subject to the following condition: Cibola Lake is open to fishing and frogging from March 15 through Labor Day.

Havasu National Wildlife Refuge

A. Hunting of Migratory Game Birds. * * *

* * * * *

3. You may possess only approved nontoxic shot while in the field.

* * * * *

B. Upland Game Hunting. * * *

* * * * *

4. You may possess only approved nontoxic shot while in the field.

* * * * *

Imperial National Wildlife Refuge

A. Hunting of Migratory Game Birds. * * *

* * * * *

3. You may possess only approved nontoxic shot while in the field.

B. Upland Game Hunting. * * *

* * * * *

2. We require approved nontoxic shot for hunting quail and cottontail rabbit.

* * * * *

§ 32.23 [Amended]

6. In § 32.23 Arkansas by revising the name of “Cossatot National Wildlife Refuge” to read “Pond Creek National Wildlife Refuge” and by placing it in alphabetical order.

7. In § 32.24 California by:

a. Revising paragraph A.2. of Clear Lake National Wildlife Refuge;

b. Revising the introductory text of paragraphs A. and B., revising paragraph A.1., adding paragraph A.4., redesignating paragraphs B.2. and B.3. as B.3. and B.4. and designating the undesignated paragraph following paragraph B.1. as B.2., revising paragraphs B.2., and B.3., and adding paragraph B.5. of Colusa National Wildlife Refuge;

c. Revising Delevan National Wildlife Refuge;

d. Revising paragraph D. of Humboldt Bay National Wildlife Refuge;

e. Revising paragraph B.2. of Kern National Wildlife Refuge;

f. Revising Lower Klamath National Wildlife Refuge;

g. Revising paragraph A. of Merced National Wildlife Refuge;

h. Revising paragraph A.4. and paragraph B. of Modoc National Wildlife Refuge;

i. Revising paragraphs A. and B. of Sacramento National Wildlife Refuge;

j. Revising paragraph A., the introductory text of paragraph B, and paragraphs B.1. and D. of San Luis National Wildlife Refuge;

k. Revising paragraphs A. and B. of Sutter National Wildlife Refuge; and

l. Revising paragraphs A. and B. of Tule Lake National Wildlife Refuge to read as follows:

§ 32.24 California.

* * * * *

Clear Lake National Wildlife Refuge

A. Hunting of Migratory Game Birds. * * *

* * * * *

2. You may possess only approved nontoxic shot while in the field.

* * * * *

Colusa National Wildlife Refuge

A. Hunting of Migratory Game Birds. We allow hunting of geese, ducks, coots, moorhens, and snipe on designated areas of the refuges subject to the following conditions:

1. You may possess only approved nontoxic shot while in the field.

* * * * *

4. No person may build or maintain fires, except in portable gas stoves.

B. Upland Game Hunting. We allow hunting of pheasant on designated areas of the refuge subject to the following conditions:

* * * * *

2. We do not allow bicycles and other conveyances. Mobility-impaired hunters should consult with the Refuge Manager for allowed conveyances.

3. You may possess only approved nontoxic shot while in the field.

* * * * *

5. No person may build or maintain fires, except in portable gas stoves.

* * * * *

Delevan National Wildlife Refuge

A. Hunting of Migratory Game Birds. We allow hunting of geese, ducks, coots, moorhens, and snipe on designated areas of the refuge subject to the following conditions:

1. You must unload firearms while transporting them between parking areas and spaced blind areas.

2. We do not allow snipe hunting in the spaced blind areas.

3. We restrict hunters assigned to the spaced blind area to within 100 feet (30 m) of their assigned hunt site except for retrieving downed birds, placing decoys, or traveling to and from the area.

4. Access to the hunt area is by foot traffic only. We do not allow bicycles and other conveyances. Mobility-impaired hunters should consult with the Refuge Manager for allowed conveyances.

5. You may possess no more than 25 shells while in the field.

6. You may possess only approved nontoxic shot while in the field.

7. No person may build or maintain fires, except in portable gas stoves.

B. Upland Game Hunting. We allow hunting of pheasant only in the free-roam areas on the refuge subject to the following conditions:

1. We do not allow pheasant hunting in the spaced blind area except during a special 1-day-only pheasant hunt on the first Monday after the opening of the State pheasant hunting season.

2. You may possess only approved nontoxic shot while in the field.

3. Access to the hunt area is by foot traffic only. We do not allow bicycles and other conveyances. Mobility-impaired hunters should consult with the Refuge Manager for allowed conveyances.

4. You may possess no more than 25 shells while in the field.

5. No person may build or maintain fires, except in portable gas stoves.

C. Big Game Hunting. [Reserved]

D. Sport Fishing. We allow fishing during daylight hours only from February 15 through October 1.

* * * * *

Humboldt Bay National Wildlife Refuge

* * * * *

D. Sport Fishing. We allow fishing on designated areas of the refuge subject to the following conditions:

1. We allow fishing from the designated shoreline train along Hookton Slough during daylight hours only.

2. We allow fishermen to use only pole and line or rod and reel from the Hookton Slough Shoreline trail fishing area.

3. We do not allow either motorized boats or motors on the refuge dock on Humboldt Bay. We close the dock on Humboldt Bay to launching of all boats from November 1 through January 15.

* * * * *

Kern National Wildlife Refuge

* * * * *

B. Upland Game Hunting. * * *

2. You may possess only approved nontoxic shot while in the field.

* * * * *

Lower Klamath National Wildlife Refuge

A. Hunting of Migratory Game Birds. We allow hunting of geese, ducks, coots, moorhens, and snipe on designated areas of the refuge subject to the following conditions:

1. In the controlled waterfowl hunting area, we require entry permits for the first 2 days of the waterfowl season for all hunters 16 years of age or older. An adult with a permit must accompany hunters under the age of 16 hunting in the controlled area. We require advance reservations for the first 2 days of the hunt.

2. Shooting hours end at l:00 p.m. daily on the California portion of the refuge except that the refuge manager may designate up to six 1-day special youth or disabled hunter hunts per season and up to 3 days per week of general waterfowl hunting starting December 1 after 1:00 p.m.

3. You may carry only unloaded firearms on hunter access routes open to motor vehicles or when taking them through posted retrieving zones when traveling to and from the hunting areas.

4. You may not set decoys in retrieving zones.

5. We do not allow air-thrust and inboard waterthrust boats.

6. You may possess only approved nontoxic shot while in the field.

7. You may use only nonmotorized boats and boats with electric motors on units 4b and 4c from the start of the hunting season through November 30. You may use motorized boats on units 4b and 4c from December 1 through the end of hunting season.

B. Upland Game Hunting. We allow hunting of pheasant on designated areas of the refuge subject to the following conditions:

1. You may possess only approved nontoxic shot while in the field.

2. You may carry only unloaded firearms on hunter access routes open to motor vehicles or when taking them through posted retrieving zones when traveling to and from the hunting areas.

C. Big Game Hunting. [Reserved]

D. Sport Fishing. [Reserved]

Merced National Wildlife Refuge

A. Hunting of Migratory Game Birds. We allow hunting of geese, ducks, coots, and moorhens on designated areas of the refuge subject to the following conditions and as we may otherwise post in the refuge regulations:

1. You must unload firearms while transporting them between parking areas and blind sites.

2. You may not possess more than 25 shells when leaving your assigned parking lot.

3. You may possess only approved nontoxic shot while in the field.

4. We restrict hunters assigned to the spaced blind unit to their assigned blind except for retrieving downed birds, placing decoys, or traveling to and from the parking area.

* * * * *

Modoc National Wildlife Refuge

A. Hunting of Migratory Game Birds. * * *

* * * * *

4. You may possess only approved nontoxic shot while in the field.

* * * * *

B. Upland Game Hunting. We allow hunting of pheasant on designated areas of the refuge subject to the following conditions:

1. We limit hunting to junior hunters possessing a valid Junior Hunting License and refuge permit.

2. You may possess only approved nontoxic shot while in the field.

* * * * *

Sacramento National Wildlife Refuge

A. Hunting of Migratory Game Birds. We allow hunting of geese, ducks, coots, moorhens, and snipe on designated areas of the refuge subject to the following conditions:

1. You must unload firearms while transporting them between parking areas and spaced blind areas.

2. We do not allow snipe hunting in the spaced blind area.

3. We restrict hunters assigned to the spaced blind unit to within 100 feet (30 m) of their assigned hunt site except for retrieving downed birds, placing decoys, or traveling to and from the parking area.

4. You may possess only approved nontoxic shot while in the field.

5. You may possess no more than 25 shells while in the field.

6. Access to the hunt area is by foot traffic only. We do not allow bicycles and other conveyances. Mobility-impaired hunters should consult with the Refuge Manager for allowed conveyances.

7. No person may build or maintain fires, except in portable gas stoves.

B. Upland Game Hunting. We allow hunting of pheasant on designated areas of the refuge subject to the following conditions:

1. We do not allow pheasant hunting in the spaced blind area except during a special 1-day-only pheasant hunt on the first Monday after the opening of the State pheasant hunting season.

2. You may possess only approved nontoxic shot while in the field.

3. Access to the hunt area is by foot traffic only. We do not allow bicycles and other conveyances. Mobility-impaired hunters should consult with the Refuge Manager for allowed conveyances.

4. You may not possess more than 25 shells while in the field.

5. No person may build or maintain fires, except in portable gas stoves.

* * * * *

San Luis National Wildlife Refuge

A. Hunting of Migratory Game Birds. We allow hunting of geese, ducks, coots, moorhens, and snipe on designated areas of the refuge subject to the following conditions and as we may otherwise post in the refuge regulations:

1. In the free-roam hunting areas, you may use only portable blinds, temporary blinds constructed of natural materials, and on the San Luis Unit, existing concrete barrel blinds. We prohibit the cutting of woody vegetation.

2. You must remove all portable blinds, decoys, and other personal equipment from the refuge following each day's hunt.

3. You may snipe hunt only within the free-roam portion of the San Luis unit's waterfowl hunting areas.

4. You may possess only approved nontoxic shot while in the field.

5. You may possess no more than 25 shells after leaving your assigned parking lot or boat launch.

6. Vehicles may stop only at designated, assigned parking areas. We prohibit dropping of passengers or equipment or stopping between designated parking areas. You must return your permits to the check stations immediately upon completion of your hunt, and prior to using any tour routes or leaving the refuge vicinity.

7. You may not transport loaded firearms while walking or bicycling between parking areas in spaced blind units, or while traveling in a boat under power.

8. We restrict hunters in the spaced blind area to their assigned blind except when they are placing decoys, traveling to and from the parking area, retrieving downed birds, or when shooting to retrieve cripples.

9. Access to the Frietas Unit free-roam hunting area is by boat only with a maximum of 5 mph. Prohibited boats include air-thrust and/or inboard water-thrust types.

10. We prohibit the use of motorized boats in the free-roam units with the exception of the Frietas Unit.

B. Upland Game Hunting. We allow hunting of pheasants on designated areas of the refuge subject to the following conditions or as we otherwise may post in refuge regulations available at visitor information centers and refuge headquarters:

1. You may possess only approved nontoxic shot while in the field.

* * * * *

D. Sport Fishing. We allow fishing on designated areas of the refuge subject to the following conditions and as we may otherwise post in the refuge regulations:

1. We allow fishing from sunrise to sunset only, except on that portion of the San Joaquin River's south (left descending) bank within the West Bear Creek Unit designated as open for fishing 24 hours per day, or as otherwise posted in refuge regulations.

2. We allow the use of one pole and line or one rod and reel per person. Fishermen must attend at all times any pole and line or rod and reel they are using for fishing.

3. We prohibit the use of any boat, float tube, or other floating aid/device.

* * * * *

Sutter National Wildlife Refuge

A. Hunting of Migratory Game Birds. We allow hunting of geese, ducks, coots, moorhens, and snipe on designated areas of the refuge subject to the following conditions:

1. You may possess only approved nontoxic shot while in the field.

2. You may possess no more than 25 shells while in the field.

3. Access to the hunt area is by foot traffic only. We do not allow bicycles and other conveyances. Mobility-impaired hunters should consult with the Refuge Manager for allowed conveyances.

4. No person may build or maintain fires, except in portable gas stoves.

B. Upland Game Hunting. We allow hunting of pheasant on designated areas of the refuge subject to the following conditions:

1. You may possess only approved nontoxic shot while in the field.

2. Access is by foot traffic only. We do not allow bicycles and other conveyances. Mobility-impaired hunters should consult with the Refuge Manager for allowed conveyances.

3. You may possess no more than 25 shells while in the field.

4. No person may build or maintain fires, except in portable gas stoves.

* * * * *

Tule Lake National Wildlife Refuge

A. Hunting of Migratory Game Birds. We allow hunting of geese, ducks, coots, moorhens, and snipe on designated areas of the refuge subject to the following conditions:

1. We require entry permits in the controlled waterfowl hunting area for the first 2 days of the waterfowl season for all hunters 16 years of age or older. An adult with a permit must accompany hunters under the age of 16 hunting in the controlled area. We require advance reservation for the first 2 days of the hunt.

2. Shooting hours end at 1:00 p.m. daily on the California portion of the refuge except that the refuge manager may designate up to six 1-day special youth or disabled hunter hunts per season and up to 3 days per week of general waterfowl hunting after 1:00 p.m. starting December 1.

3. We do not allow possession of any loaded firearms more than 200 feet (60 m) from the established blind stakes. You select blind sites by lottery at the beginning of each hunt day. You may shoot only from within your assigned blind site.

4. You may carry only unloaded firearms on hunter access routes open to motor vehicles or when taking them through posted retrieving zones when traveling to and from the hunting areas.

5. We do not allow you to set decoys in retrieving zones.

6. We do not allow air-thrust and inboard waterthrust boats.

7. You may possess only approved nontoxic shot while in the field.

B. Upland Game Hunting. We allow hunting of pheasant on designated areas of the refuge subject to the following conditions:

1. You may possess only approved nontoxic shot while in the field.

2. You may carry only unloaded firearms on hunter access routes open to motor vehicles or when taking them through posted retrieving zones when traveling to and from the hunting areas.

* * * * *

8. In § 32.25 Colorado by revising paragraph B. of Arapaho National Wildlife Refuge to read as follows:

§ 32.25 Colorado.

* * * * *

Arapaho National Wildlife Refuge

* * * * *

B. Upland Game Hunting. We allow upland game hunting on designated areas of the refuge pursuant to State law and subject to the following condition: You may possess only approved nontoxic shot while in the field.

* * * * *

9. In § 32.27 Delaware by:

a. Revising paragraph B. of Bombay Hook National Wildlife Refuge; and

b. Revising paragraph B.4. of Prime Hook National Wildlife Refuge to read as follows:

§ 32.27 Delaware.

* * * * *

Bombay Hook National Wildlife Refuge

* * * * *

B. Upland Game Hunting. We allow hunting of upland game on designated areas of the refuge subject to the following conditions:

1. We allow hunting only on the South Upland Hunting Area.

2. We allow hunting from ½ hour before sunrise to ½ hour after sunset.

3. We do not allow hunting from March 1 through August 31.

4. Shotgun hunters may possess only approved nontoxic shot while in the field.

* * * * *

Prime Hook National Wildlife Refuge

* * * * *

B. Upland Game Hunting. * * *

* * * * *

4. Shotgun hunters may possess only approved nontoxic shot while in the field.

* * * * *

10. In § 32.28 Florida by:

a. Revising Chassahowitzka National Wildlife Refuge;

b. Revising paragraphs C. and D. of Lake Woodruff National Wildlife Refuge;

c. Revising paragraphs A., B., C., and D.9. and adding paragraph D.10. of St. Marks National Wildlife Refuge; and

d. Revising paragraphs B., C., and D. of St. Vincent National Wildlife Refuge to read as follows:

§ 32.28 Florida.

* * * * *

Chassahowitzka National Wildlife Refuge

A. Hunting of Migratory Game Birds. We allow hunting of ducks and coots on designated areas of the refuge subject to the following condition: We require permits.

B. Upland Game Hunting. We allow hunting of quail, squirrel, rabbit, and armadillo on designated areas of the refuge subject to the following condition: We require permits.

C. Big Game Hunting. We allow hunting of white-tailed deer and feral hogs on designated areas of the refuge subject to the following condition: We require permits.

D. Sport Fishing. We allow sport fishing on the refuge year round. Creel limits/seasons are in accordance with State regulations.

* * * * *

Lake Woodruff National Wildlife Refuge

* * * * *

C. Big Game Hunting. We allow hunting of white-tailed deer and feral hogs on designated areas of the refuge subject to the following condition: We require permits.

D. Sport Fishing. Sport fishing will be in accordance with State regulations and is subject to the following conditions:

1. We allow fishing only from sunrise to sunset.

2. We do not allow use of airboats in the refuge.

3. We do not allow commercial fishing or the taking of frogs or turtles.

4. We do not allow the use of snatch hooks in the refuge impoundments.

* * * * *

St. Marks National Wildlife Refuge

A. Hunting of Migratory Game Birds. We allow hunting of ducks and coots in designated areas of the refuge subject to the following condition: We require permits.

B. Upland Game Hunting. We allow hunting of squirrel, rabbit, and raccoon on designated areas of the refuge subject to the following condition: We require permits.

C. Big Game Hunting. We allow hunting of white-tailed deer, turkeys, and feral hogs on designated areas of the refuge subject to the following condition: We require permits.

D. Sport Fishing. * * *

* * * * *

9. We prohibit crabbing in refuge pools and impoundments along Lighthouse Road.

10. We do not allow launching of airboats or inboard waterthrust boats (personal watercraft) from refuge saltwater boat ramps at Wakulla Beach or the Lighthouse Road area.

St. Vincent National Wildlife Refuge

* * * * *

B. Upland Game Hunting. [Reserved]

C. Big Game Hunting. We allow hunting of white-tailed deer, sambar deer, and feral hogs on designated areas of the refuge subject to the following condition: We require permits.

D. Sport Fishing. We allow fishing on designated areas of the refuge subject to the following conditions:

1. We allow fishing only from sunrise to sunset.

2. We allow only nonmotorized boats and boats with electric motors.

3. We do not allow the use of live minnows as bait.

4. We allow fishing in Lakes 1 and 2 and Oyster Pond from April 1 through September 30.

5. We allow fishing in Lakes 3, 4, and 5 from May 15 through September 30.

* * * * *

11. In § 32.29 Georgia by:

a. Alphabetically adding Bond Swamp National Wildlife Refuge;

b. Revising paragraphs C. and D. of Okefenokee National Wildlife Refuge; and

c. Revising paragraphs B. and C., the introductory text of paragraph D., and paragraph D.3. of Savannah National Wildlife Refuge to read as follows:

§ 32.29 Georgia.

* * * * *

Bond Swamp National Wildlife Refuge

A. Hunting of Migratory Game Birds. [Reserved]

B. Upland Game Hunting. [Reserved]

C. Big Game Hunting. We allow hunting of white-tailed deer and feral hogs on designated areas of the refuge subject to the following condition: We require permits.

D. Sport Fishing. We allow fishing on designated areas of the refuge subject to the following conditions:

1. We allow fishing from March 15 to October 15 except on the Ocmulgee River, which is open to fishing year-round.

2. We allow fishing only from sunrise to sunset.

3. We allow fishing only with pole and line or rod and reel.

4. We prohibit the taking of sturgeon, frogs, turtles, and mollusks.

5. We allow only nonmotorized boats or boats with electric motors on refuge waters except the Ocmulgee River.

6. You may not leave boats or other personal equipment on the refuge overnight.

7. The minimum size limit for largemouth bass is 14 inches (35 cm)

* * * * *

Okefenokee National Wildlife Refuge

* * * * *

C. Big Game Hunting. We allow hunting of white-tailed deer and feral hogs on designated areas of the refuge subject to the following condition: We require permits except for on Cowhouse Island. We open Cowhouse Island to white-tailed deer and feral hog hunting per Dixon Memorial State Forest Regulations.

D. Sport Fishing. We allow fishing on designated areas of the refuge subject to the following conditions:

1. We do not allow the use of boats with motors larger than 10 horsepower.

2. We do not allow the use of live minnows as bait.

3. We allow only the use of pole and line or rod and reel.

4. The daily creel limit is 5 largemouth bass, 5 channel catfish, and 25 of any one, or combination, of bream or sunfish. We do not allow the possession of more than the daily creel limit.

5. We do not allow the taking of largemouth bass smaller than 14 inches (35 cm).

* * * * *

Savannah National Wildlife Refuge

* * * * *

B. Upland Game Hunting. We allow hunting of squirrels and feral hogs on designated areas of the refuge subject to the following condition: We require permits.

C. Big Game Hunting. We allow hunting of white-tailed deer, turkey, and feral hogs on designated areas of the refuge subject to the following condition: We require permits.

D. Sport Fishing. We allow fishing on designated areas of the refuge subject to the following conditions:

* * * * *

3. We allow fishing from sunrise to sunset.

* * * * *

12. In § 32.30 Hawaii by:

a. Revising paragraph C.1. of Hakalau Forest National Wildlife Refuge; and

b. Alphabetically adding Kilauea Point National Wildlife Refuge to read as follows:

§ 32.30 Hawaii.

* * * * *

Hakalau Forest National Wildlife Refuge

* * * * *

C. Big Game Hunting. * * *

1. You must have reservations or permits to access the refuge.

* * * * *

Kilauea Point National Wildlife Refuge

A. Hunting of Migratory Game Birds. [Reserved]

B. Upland Game Hunting. [Reserved]

C. Big Game Hunting. [Reserved]

D. Sport Fishing. Anglers may salt water fish in designated areas of the refuge.

13. In § 32.31 Idaho by:

a. Revising paragraph A.2. of Bear Lake National Wildlife Refuge;

b. Revising paragraphs A. and B. of Camas National Wildlife Refuge;

c. Revising paragraphs A.3. and B.4. of Deer Flat National Wildlife Refuge; and

d. Revising paragraph B.2. of Minidoka National Wildlife Refuge to read as follows:

§ 32.31 Idaho.

* * * * *

Bear Lake National Wildlife Refuge

A. Hunting of Migratory Game Birds. * * *

* * * * *

2. You may possess only approved nontoxic shot while in the field.

* * * * *

Camas National Wildlife Refuge

A. Hunting of Migratory Game Birds. We allow hunting of geese, ducks, coots, and snipe on designated areas of the refuge subject to the following condition: You may possess only approved nontoxic shot while in the field.

B. Upland Game Hunting. We allow hunting of pheasant and grouse on designated areas of the refuge subject to the following condition: Pheasant hunters may possess only approved nontoxic shot while in the field.

* * * * *

Deer Flat National Wildlife Refuge

A. Hunting of Migratory Game Birds. * * *

* * * * *

3. Waterfowl and snipe hunters may possess only approved nontoxic shot while in the field.

* * * * *

B. Upland Game Hunting. * * *

* * * * *

4. Pheasant, quail, and partridge hunters may possess only approved nontoxic shot while in the field.

* * * * *

Minidoka National Wildlife Refuge

* * * * *

B. Upland Game Hunting. * * *

* * * * *

2. Pheasant hunters may possess only approved nontoxic shot while in the field.

* * * * *

14. In § 32.32 Illinois by:

a. Revising paragraphs A.3., A.4., B.3., C.2., C.3., C.4., D.1., and D.7. and removing paragraph D.8. of Crab Orchard National Wildlife Refuge;

b. Revising paragraph B. and the introductory text of paragraph C. of Cypress Creek National Wildlife Refuge;

c. Revising paragraph B.1. of Mark Twain National Wildlife Refuge; and

d. Revising paragraph A., the introductory text of paragraph B., and paragraphs B.3. and B.4., adding paragraph B.5., and revising the introductory text of paragraph C., and paragraphs C.3., C.4., C.5. and D. of Upper Mississippi National Wildlife and Fish Refuge to read as follows:

§ 32.32 Illinois.

* * * * *

Crab Orchard National Wildlife Refuge

A. Hunting of Migratory Game Birds. * * *

* * * * *

3. Goose hunters outside the controlled goose hunting area on Crab Orchard Lake must hunt from a blind that is on shore or anchored a minimum of 200 yards (180 m) away from any shoreline. Waterfowl hunters may also hunt on the east shoreline in Grassy Bay.

4. You may possess only approved nontoxic shot while hunting migratory game bird species.

B. Upland Game Hunting. * * *

* * * * *

3. You may possess only approved nontoxic shot while hunting all permitted species except wild turkey. You may possess and use lead shot for hunting wild turkey.

C. Big Game Hunting. * * *

* * * * *

2. We require hunters using the closed area to check in at the refuge visitor contact station prior to hunting and to comply with the special rules provided to them.

3. You may not hunt deer with a firearm in the controlled goose hunting areas. You may hunt deer in the controlled goose hunting areas with archery equipment in accordance with State seasons and regulations.

4. You must remove hunting stands at the end of each day's hunt.

* * * * *

D. Sport Fishing. * * *

1. Crab Orchard Lake—west of Wolf Creek Road—Anglers may fish from boats all year. Anglers must remove trotlines/jugs from sunrise until sunset from Memorial Day through Labor Day; east of Wolf Creek Road, anglers may fish from boats March 15 through September 30. Anglers may fish all year at the Wolf Creek and Route 148 causeway areas. Anglers must check and remove fish from all jugs and trotlines daily. It is illegal to use stakes to anchor any trotlines; anglers must tag them with their name and address. Anglers may use all noncommercial fishing methods except they may not use any underwater breathing apparatus. Anglers may not use jugs or trotlines with any flotation device that has previously contained any petroleum-based materials or toxic substances. Anglers must attach a buoyed device that is visible on the water's surface to all trotlines.

* * * * *

7. We restrict motorboats to slow speeds leaving no wakes in Cambria Neck, and within 150 feet (45 m) of any shoreline, swimming area, marina entrance, boat ramp, or causeway tunnel on Crab Orchard, Little Grassy, or Devils Kitchen Lakes.

Cypress Creek National Wildlife Refuge

* * * * *

B. Upland Game Hunting. You may hunt bob-white quail, rabbit, squirrel, raccoon, opossum, coyote, red fox, grey fox, and turkey (spring) on designated areas of the refuge in accordance with posted regulations and subject to the following conditions:

1. If we provide hunter check-in/check-out post, you must present daily harvests.

2. We do not allow hunting after sunset.

3. You may possess only approved nontoxic shot while hunting for any permitted birds except wild turkey. You may use lead shot while hunting wild turkey.

C. Big Game Hunting. We allow hunting of white-tailed deer on designated areas of the refuge in accordance with posted regulations and subject to the following conditions:

* * * * *

Mark Twain National Wildlife Refuge

* * * * *

B. Upland Game Hunting. * * *

1. You may possess only approved nontoxic shot while hunting all permitted birds, except wild turkeys. You may possess and use lead shot for hunting wild turkey.

* * * * *

Upper Mississippi National Wildlife and Fish Refuge

A. Hunting of Migratory Game Birds. We allow hunting of migratory game birds on designated areas of the refuge subject to the following conditions:

1. You may not hunt migratory birds on refuge-closed areas posted “Area Closed,” on the Goose Island “No Hunting” zone in Pool 8, on the Upper Halfway Creek Marsh “No Hunting” zone in Pool 7, or on the Frog Pond area “No Hunting” zone in Pool 13.

2. We require permits for Potters Marsh in Pool 13 except during the early teal season.

3. You may possess only approved nontoxic shot while in the field.

4. On Pools 4 through 11 you must remove all decoys from the refuge at the end of each day's hunt.

B. Upland Game Hunting. We allow hunting of upland game on designated areas of the refuge subject to the following conditions:

* * * * *

3. You may not hunt at any time on the Goose Island “No Hunting” zone in Pool 8, on the Upper Halfway Creek Marsh “No Hunting” zone in Pool 7, or on the Frog Pond “No Hunting” zone in Pool 13.

4. Shotgun hunters may possess only approved nontoxic shot when hunting for any permitted birds or other small game, except wild turkey. We still allow possession of lead shot for hunting wild turkey.

5. You may use lights and dogs to hunt raccoons, and other specifically authorized small mammals, in accordance with State regulations. We allow such use of lights on the refuge at the point of kill only. We prohibit all other uses of lights for hunting on the refuge.

C. Big Game Hunting. We allow hunting of white-tailed deer on designated areas of the refuge subject to the following conditions:

* * * * *

3. You may not hunt at any time on the Goose Island “No Hunting” zone in Pool 8, on the Upper Halfway Creek Marsh “No Hunting” zone in Pool 7, or on the Frog Pond “No Hunting” zone in Pool 13.

4. We do not allow construction or use of permanent blinds, platforms, or ladders.

5. You must remove all stands from the refuge at the end of each day's hunt.

D. Sport Fishing. We allow fishing on designated areas of the refuge subject to the following conditions:

1. We do not allow fishing on the Spring Lake Closed Area, Carroll County, Illinois from October 1 through the last day of the Illinois waterfowl season.

2. We allow only hand-powered boats or boats with electric motors on Mertes' Slough in Buffalo County, Wisconsin.

15. In § 32.34 Iowa by revising paragraph B. of Union Slough National Wildlife Refuge to read as follows:

§ 32.34 Iowa.

* * * * *

Union Slough National Wildlife Refuge

* * * * *

B. Upland Game Hunting. You may hunt upland game in designated areas of the refuge subject to the following condition: You may possess only approved nontoxic shot while hunting upland game, except wild turkey. You may possess and use lead shot for wild turkey hunting.

* * * * *

16. In § 32.35 Kansas by:

a. Revising paragraph B.2. of Flint Hills National Wildlife Refuge;

b. Revising paragraph A. of Kirwin National Wildlife Refuge; and

c. Revising paragraph A. of Quivira National Wildlife Refuge to read as follows:

§ 32.35 Kansas.

* * * * *

Flint Hills National Wildlife Refuge

* * * * *

B. Upland Game Hunting. * * *

2. You may possess only approved nontoxic shot or rimfire firearms while in the field.

* * * * *

Kirwin National Wildlife Refuge

A. Hunting of Migratory Game Birds. We allow hunting of geese, ducks, coots, mourning doves, and snipe on designated areas of the refuge subject to the following condition: Waterfowl and coot hunters may possess only approved nontoxic shot while in the field.

* * * * *

Quivira National Wildlife Refuge

A. Hunting of Migratory Game Birds. We allow hunting of geese, ducks, coots, rails (Virginia and Sora only), mourning doves, and common snipe on designated areas of the refuge subject to the following condition: We require approved nontoxic shot when hunting any game on the refuge. We prohibit the possession of lead shot in the field.

* * * * *

17. In § 32.36 Kentucky by revising Ohio River Islands National Wildlife Refuge to read as follows:

§ 32.36 Kentucky.

* * * * *

Ohio River Islands National Wildlife Refuge

Refer to § 32.68 West Virginia for regulations.

* * * * *

18. In § 32.37 Louisiana by:

a. Revising paragraphs B. and C., the introductory text of paragraph D., and paragraphs D.1. and D.2. of Catahoula National Wildlife Refuge;

b. Revising D'Arbonne National Wildlife Refuge;

c. Revising paragraph D.2. and removing paragraphs D.3. and D.4. of Grand Cote National Wildlife Refuge;

d. Revising Lake Ophelia National Wildlife Refuge;

e. Revising the introductory text of paragraph A., paragraph A.1., and paragraph D. of Sabine National Wildlife Refuge; and

f. Revising Upper Ouachita National Wildlife Refuge to read as follows:

§ 32.37 Louisiana.

* * * * *

Catahoula National Wildlife Refuge

* * * * *

B. Upland Game Hunting. We allow hunting of raccoon, squirrel, rabbit, and feral hogs on designated areas of the refuge subject to the following condition: We require permits.

C. Big Game Hunting. We allow hunting of white-tailed deer and feral hogs on designated areas of the refuge subject to the following condition: We require permits.

D. Sport Fishing. We allow fishing on designated areas of the refuge subject to the following conditions:

1. We allow fishing from 1 hour before sunrise until ½ hour after sunset. We allow only pole and line or rod and reel fishing. We prohibit snagging.

2. We allow boat launching on all refuge waters as designated in the refuge brochure. We allow only nonmotorized boats or boats with motors of 10 horsepower or less. You may not leave boats on the refuge overnight.

* * * * *

D'Arbonne National Wildlife Refuge

A. Hunting of Migratory Game Birds. We allow hunting of ducks, geese, coots, and woodcock on designated areas of the refuge subject to the following condition: We require permits.

B. Upland Game Hunting. We allow hunting of quail, squirrel, rabbit, raccoon, and opossum on designated areas of the refuge subject to the following condition: We require permits.

C. Big Game Hunting. We allow hunting of white-tailed deer on designated areas of the refuge subject to the following condition: We require permits.

D. Sport Fishing. We allow fishing on designated areas of the refuge subject to the following conditions:

1. The ends of trotlines must consist of a length of cotton line that extends from the points of attachment into the water.

2. We allow only cotton limb lines.

* * * * *

Grand Cote National Wildlife Refuge

* * * * *

D. Sport Fishing. * * *

* * * * *

2. Any person entering, using, or occupying the refuge for fishing or crawfishing must abide by all terms and conditions in the refuge fishing brochure.

* * * * *

Lake Ophelia National Wildlife Refuge

A. Hunting of Migratory Game Birds. You may hunt duck, coots, woodcock, and snipe on designated areas of the refuge subject to the following conditions:

1. We require permits.

2. Any person entering, using, or occupying the refuge for hunting must abide by all terms and conditions in the refuge hunting brochure.

B. Upland Game Hunting. We allow hunting of squirrel, rabbit, and raccoon on designated areas of the refuge subject to the following conditions:

1. We require permits.

2. Any person entering, using, or occupying the refuge for hunting must abide by all terms and conditions in the refuge hunting brochure.

C. Big Game Hunting. We allow hunting of white-tailed deer on designated areas of the refuge subject to the following conditions:

1. We require permits.

2. Any person entering, using, or occupying the refuge for hunting must abide by all terms and conditions in the refuge hunting brochure.

D. Sport Fishing. We allow fishing in designated areas of the refuge subject to the following conditions:

1. We require permits.

2. Any person entering, using, or occupying the refuge for fishing must abide by all terms and conditions in the refuge fishing brochure.

* * * * *

Sabine National Wildlife Refuge

A. Hunting of Migratory Game Birds. We allow hunting of geese, ducks, and coots on designated areas of the refuge subject to the following conditions:

1. We require refuge hunting permits.

* * * * *

D. Sport Fishing. We allow fishing, crabbing, and shrimp cast netting on designated areas of the refuge subject to the following condition: Any person entering, using, or occupying the refuge must abide by all terms and conditions set forth in the refuge fishing brochure.

* * * * *

Upper Ouachita National Wildlife Refuge

A. Hunting of Migratory Game Birds. We allow hunting of ducks, geese, coots, and woodcock on designated areas of the refuge subject to the following condition: We require permits.

B. Upland Game Hunting. We allow hunting of quail, squirrel, rabbit, raccoon, opossum, beaver, and coyotes on designated areas of the refuge subject to the following condition: We require permits.

C. Big Game Hunting. We allow hunting of white-tailed deer and feral hogs on designated areas of the refuge subject to the following condition: We require permits.

D. Sport Fishing. We allow fishing on designated areas of the refuge subject to the following conditions:

1. The ends of trotlines must consist of a length of cotton line that extends from the points of attachment into the water.

2. We allow only cotton limb lines.

19. In § 32.38 Maine by:

a. Revising paragraph B.3. and adding paragraph C.5. of Rachel Carson National Wildlife Refuge; and

b. Revising paragraph B. of Sunkhaze Meadows National Wildlife Refuge to read as follows:

§ 32.38 Maine.

* * * * *

Rachel Carson National Wildlife Refuge

* * * * *

B. Upland Game Hunting. * * *

* * * * *

3. You may possess only approved nontoxic shot while in the field.

C. Big Game Hunting. * * *

* * * * *

5. We allow only archery and shotgun hunting with appropriate buckshot or slug loads.

* * * * *

Sunkhaze Meadows National Wildlife Refuge

* * * * *

B. Upland Game Hunting. We allow hunting of upland game on designated areas of the refuge subject to the following condition: Shotgun hunters may possess only approved nontoxic shot while in the field.

* * * * *

20. In § 32.39 Maryland by:

a. Revising paragraph D. of Eastern Neck National Wildlife Refuge; and

b. Revising paragraph B.6. of Patuxent Research Refuge to read as follows:

§ 32.39 Maryland.

* * * * *

Eastern Neck National Wildlife Refuge

* * * * *

D. Sport Fishing. We allow fishing and crabbing in designated areas of the refuge in accordance with State regulations and subject to the following conditions:

1. We allow fishing and crabbing from Eastern Neck Island bridge.

2. We allow fishing and crabbing from April 1—September 30 during daylight hours only at the Ingleside Recreation Area.

3. We allow fishing from the Boxes Point and Duck Inn Trails during daylight hours only.

Patuxent Research Refuge

* * * * *

B. Upland Game Hunting. * * *

* * * * *

6. Shotgun hunters may possess only approved nontoxic shot while in the field.

* * * * *

21. In § 32.40 Massachusetts by revising paragraph B.3. of Oxbow National Wildlife Refuge to read as follows:

§ 32.40 Massachusetts.

* * * * *

Oxbow National Wildlife Refuge

* * * * *

B. Upland Game Hunting. * * *

* * * * *

3. You may possess only approved nontoxic shot while in the field.

* * * * *

22. In § 32.42 Minnesota by:

a. Revising paragraph B.1. of Big Stone National Wildlife Refuge;

b. Revising paragraph B.2. of Minnesota Valley National Wildlife Refuge;

c. Revising paragraphs A.1. and B.1. of Rice Lake National Wildlife Refuge;

d. Revising paragraphs A.5. and B.1. of Sherburne National Wildlife Refuge; and

e. Revising paragraph B.3. of Tamarac National Wildlife Refuge to read as follows:

§ 32.42 Minnesota.

* * * * *

Big Stone National Wildlife Refuge

* * * * *

B. Upland Game Hunting. * * *

1. You may possess only approved nontoxic shot while hunting for partridge or ring-necked pheasant.

* * * * *

Minnesota Valley National Wildlife Refuge

* * * * *

B. Upland Game Hunting. * * *

* * * * *

2. You may possess only approved nontoxic shot while in the field.

* * * * *

Rice Lake National Wildlife Refuge

A. Hunting of Migratory Game Birds. * * *

1. Shotgun hunters may possess only approved nontoxic shot while in the field.

B. Upland Game Hunting. * * *

1. Shotgun hunters may possess only approved nontoxic shot while hunting upland game species.

* * * * *

Sherburne National Wildlife Refuge

A. Hunting of Migratory Game Birds. * * *

* * * * *

5. Shotgun hunters may possess only approved nontoxic shot while in the field.

B. Upland Game Hunting. * * *

1. Shotgun hunters may possess only approved nontoxic shot while hunting for all upland game species.

* * * * *

Tamarac National Wildlife Refuge

* * * * *

B. Upland Game Hunting. * * *

* * * * *

3. Shotgun hunters may possess only approved nontoxic shot while hunting for all upland game species.

* * * * *

23. In § 32.43 Mississippi by:

a. Revising Dahomey National Wildlife Refuge;

b. Revising St. Catherine Creek National Wildlife Refuge; and

c. Revising Tallahatchie National Wildlife Refuge to read as follows:

§ 32.43 Mississippi.

* * * * *

Dahomey National Wildlife Refuge

A. Hunting of Migratory Game Birds. We allow hunting of mourning doves, migratory waterfowl, coots, snipe, and woodcock on designated areas of the refuge subject to the following condition: We require permits.

B. Upland Game Hunting. We allow hunting of quail, squirrel, rabbit, beaver, raccoon, coyotes, and opossum on designated areas of the refuge subject to the following condition: We require permits.

C. Big Game Hunting. We allow hunting of deer, turkey, and feral hogs on designated areas of the refuge subject to the following condition: We require permits.

D. Sport Fishing. We allow sport fishing on designated areas of the refuge subject to the following condition: We require permits.

* * * * *

St. Catherine Creek National Wildlife Refuge

A. Hunting of Migratory Game Birds. We allow hunting of ducks, geese, and coots on designated areas of the refuge subject to the following condition: We require permits.

B. Upland Game Hunting. We allow hunting of squirrel, rabbit, beaver, nutria, muskrat, feral hogs, raccoon, coyotes, and opossum on designated areas of the refuge subject to the following condition: We require permits.

C. Big Game Hunting. We allow hunting of white-tailed deer and turkey on designated areas of the refuge subject to the following condition: We require permits.

D. Sport Fishing. We allow sport fishing on designated areas of the refuge subject to the following condition: We require permits.

Tallahatchie National Wildlife Refuge

A. Hunting of Migratory Game Birds. We allow hunting of mourning doves, migratory waterfowl, coots, snipe, and woodcock on designated areas of the refuge subject to the following condition: We require permits.

B. Upland Game Hunting. We allow hunting of quail, squirrel, rabbit, beaver, raccoon, coyotes, and opossum on designated areas of the refuge subject to the following condition: We require permits.

C. Big Game Hunting. We allow hunting of deer, turkey, and feral hogs on designated areas of the refuge subject to the following condition: We require permits.

D. Sport Fishing. We allow sport fishing on designated areas of the refuge subject to the following condition: We require permits.

* * * * *

24. In § 32.44 Missouri by revising paragraph A.2. of Swan Lake National Wildlife Refuge to read as follows:

§ 32.44 Missouri.

* * * * *

Swan Lake National Wildlife Refuge

A. Hunting of Migratory Game Birds. * * *

* * * * *

2. You may possess only approved nontoxic shot while in the field.

* * * * *

25. In § 32.45 Montana by:

a. Revising paragraph B. of Black Coulee National Wildlife Refuge;

b. Revising paragraph B.3. of Bowdoin National Wildlife Refuge;

c. Revising paragraph B.1. of Hailstone National Wildlife Refuge;

d. Revising paragraph B. of Lake Mason National Wildlife Refuge;

e. Revising paragraph A. of Red Rock Lakes National Wildlife Refuge;

f. Revising paragraph A. of Swan River National Wildlife Refuge; and

g. Revising paragraph B. of War Horse National Wildlife Refuge to read as follows:

§ 32.45 Montana.

* * * * *

Black Coulee National Wildlife Refuge

* * * * *

B. Upland Game Hunting. We allow hunting of upland game on designated areas of the refuge subject to the following condition: You may possess only approved nontoxic shot while in the field.

* * * * *

Bowdoin National Wildlife Refuge

* * * * *

B. Upland Game Hunting. * * *

* * * * *

3. You may possess only approved nontoxic shot while in the field.

* * * * *

Hailstone National Wildlife Refuge

* * * * *

B. Upland Game Hunting. * * *

1. You may possess only approved nontoxic shot while in the field.

* * * * *

Lake Mason National Wildlife Refuge

* * * * *

B. Upland Game Hunting. We allow hunting of upland game on designated areas of the refuge subject to the following condition: You may possess only approved nontoxic shot while in the field.

* * * * *

Red Rock Lakes National Wildlife Refuge

A. Hunting of Migratory Game Birds. We allow hunting of geese, ducks, and coots on designated areas of the refuge subject to the following condition: Waterfowl and coot hunters may possess only approved nontoxic shot while in the field.

* * * * *

Swan River National Wildlife Refuge

A. Hunting of Migratory Game Birds. We allow hunting of geese, ducks, and coots on designated areas of the refuge subject to the following condition: Waterfowl and coot hunters may possess only approved nontoxic shot while in the field.

* * * * *

War Horse National Wildlife Refuge

* * * * *

B. Upland Game Hunting. We allow hunting of upland game birds on designated areas of the refuge subject to the following condition: You may possess only approved nontoxic shot while in the field.

* * * * *

26. In § 32.47 Nevada by:

a. Revising paragraphs A. and D. of Ruby Lake National Wildlife Refuge; and

b. Revising paragraphs A.1., B., C., and D. of Sheldon National Wildlife Refuge to read as follows:

§ 32.47 Nevada.

* * * * *

Ruby Lake National Wildlife Refuge

A. Hunting of Migratory Game Birds. We allow hunting of geese, ducks, coots, moorhens, and snipe on designated areas of the refuge in accordance with State law and subject to the following conditions:

1. We do not allow off-road vehicles on the refuge.

2. We do not allow permanent and pit blinds. You must remove all blind materials and decoys at the end of each hunting day.

* * * * *

D. Sport Fishing. We allow fishing on designated areas of the refuge subject to State law and the following conditions:

1. We allow fishing from 1 hour before sunrise until 2 hours after sunset.

2. We allow fishing only on the dikes in the areas north of the Brown Dike and east of the Collection Ditch with the exception that you may fish by wading and from personal flotation devices (float tubes) on Unit 21.

3. We prohibit fishing from the bank on the South Marsh except at Brown Dike, the Main Boat Landing, and Narciss Boat Landing.

4. You may use only artificial lures in the Collection Ditch and spring ponds adjoining the ditch.

5. We do not allow boats on the refuge from January 1 through June 14.

6. During the boating season, we allow only boats on the South Marsh. Beginning June 15 through July 31, we allow only motorless boats or boats with battery-powered electric motors. Beginning August 1 through December 31, we allow only motorless boats and boats propelled with motors with a total of 10 horsepower or less.

7. Launch boats only from designated landings.

8. Do not store boats of any kind on the refuge from January 1 through May 31.

9. We do not allow off-road vehicles on the refuge.

Sheldon National Wildlife Refuge

A. Hunting of Migratory Game Birds. * * *

1. Waterfowl and coot hunters may possess only approved nontoxic shot while in the field.

* * * * *

B. Upland Game Hunting. We allow hunting of quail, grouse, and partridge on designated areas of the refuge.

C. Big Game Hunting. We allow hunting of deer, pronghorn, and bighorn sheep on designated areas of the refuge.

D. Sport Fishing. We allow fishing on designated areas of the refuge subject to the following conditions:

1. Anglers may only bank fish, fish by wading, or use boats with electric motors, float tubes or similar flotation devices in Big Springs Reservoir, Duferrena Ponds, and Catnip Reservoir. Anglers may not fish from other types of motorized boats.

2. We allow only individuals 12 years of age or under, or 65 years of age or older, or disabled individuals to fish in McGee Pond.

* * * * *

27. In § 32.48 by revising New Hampshire to read as follows:

§ 32.48 New Hampshire.

We have opened the following refuge unit to hunting and/or fishing with applicable refuge-specific regulations:

Great Bay National Wildlife Refuge

A. Hunting of Migratory Game Birds. We allow hunting of migratory game birds on designated areas of the refuge subject to the following conditions:

1. Waterfowl hunting will not require a permit. We will allow hunting only from the immediate shoreline of the Bay.

2. We allow only portable blinds. You must remove all decoys, blinds, and boats after each day's hunt.

3. Waterfowl hunters may access shorelines by boat only.

B. Upland Game Hunting. [Reserved]

C. Big Game Hunting. We allow hunting of deer on designated areas of the refuge subject to the following conditions:

1. We require refuge permits for the deer hunt.

2. We require big game hunters to wear in a conspicuous manner on the head, chest, and back, a minimum of 400 square inches (2600 cm²) of solid-colored blaze-orange clothing or material.

3. We allow only shotguns and bows.

D. Sport Fishing. [Reserved]

28. In § 32.49 New Jersey by:

a. Revising paragraph A.4. of Cape May National Wildlife Refuge;

b. Revising paragraph A.7. of Edwin B. Forsythe National Wildlife Refuge;

c. Revising paragraph C. of Great Swamp National Wildlife Refuge;

d. Revising paragraph A.5. of Supawna Meadows National Wildlife Refuge; and

e. Revising paragraph A.3. of Wallkill River National Wildlife Refuge to read as follows:

§ 32.49 New Jersey.

* * * * *

Cape May National Wildlife Refuge

A. Hunting of Migratory Game Birds. * * *

* * * * *

4. You may possess only approved nontoxic shot while in the field.

* * * * *

Edwin B. Forsythe National Wildlife Refuge

A. Hunting of Migratory Game Birds. * * *

* * * * *

7. Shotgun hunters may possess only approved nontoxic shot while in the field.

* * * * *

Great Swamp National Wildlife Refuge

* * * * *

C. Big Game Hunting. We allow hunting of deer on designated areas of the refuge subject to the following conditions: Hunters must comply with State laws governing special deer permit hunts.

* * * * *

Supawna Meadows National Wildlife Refuge

A. Hunting of Migratory Game Birds. * * *

* * * * *

5. You may possess only approved nontoxic shot while in the field.

* * * * *

Wallkill River National Wildlife Refuge

A. Hunting of Migratory Game Birds. * * *

* * * * *

3. Shotgun hunters may possess only approved nontoxic shot while in the field.

* * * * *

29. In § 32.50 New Mexico by:

a. Revising paragraphs A.2. and B.1. of Bitter Lake National Wildlife Refuge;

b. Revising paragraphs A. and B.2. of Bosque Del Apache National Wildlife Refuge; and

c. Revising paragraph A.2. of Las Vegas National Wildlife Refuge to read as follows:

§ 32.50 New Mexico.

* * * * *

Bitter Lake National Wildlife Refuge

A. Hunting of Migratory Game Birds. * * *

* * * * *

2. You may possess only approved nontoxic shot while in the field.

* * * * *

B. Upland Game Hunting. * * *

1. You may possess only approved nontoxic shot while in the field.

* * * * *

Bosque Del Apache National Wildlife Refuge

A. Hunting of Migratory Game Birds. We allow hunting of mourning and white-winged doves on designated areas of the refuge subject to the following condition: You may possess only approved nontoxic shot while in the field.

B. Upland Game Hunting. * * *

* * * * *

2. You may possess only approved nontoxic shot while in the field.

* * * * *

Las Vegas National Wildlife Refuge

A. Hunting of Migratory Game Birds. * * *

* * * * *

2. You may possess only approved nontoxic shot while in the field.

* * * * *

30. In § 32.51 New York by revising paragraphs A.4. and B.4. and adding paragraph A.8. of Iroquois National Wildlife Refuge to read as follows:

§ 32.51 New York.

* * * * *

Iroquois National Wildlife Refuge

A. Hunting of Migratory Game Birds. * * *

* * * * *

4. Waterfowl hunters may not possess more than 20 shells per day.

* * * * *

8. You may possess only approved nontoxic shot while in the field.

B. Hunting of Upland Game. * * *

* * * * *

4. Shotgun hunters may possess only approved nontoxic shot while in the field.

* * * * *

31. In § 32.52 North Carolina by:

a. Revising paragraph A.1. of Cedar Island National Wildlife Refuge;

b. Alphabetically adding Currituck National Wildlife Refuge;

c. Revising paragraph A., adding paragraph C.2., and revising paragraph D. of Mattamuskeet National Wildlife Refuge;

d. Revising paragraphs A., B., and C. of Pocosin Lakes National Wildlife Refuge;

e. Revising paragraph A.2. of Roanoke River National Wildlife Refuge; and

f. Revising paragraph A.1. of Swanquarter National Wildlife Refuge to read as follows:

§ 32.52 North Carolina.

* * * * *

Cedar Island National Wildlife Refuge

A. Hunting of Migratory Game Birds. * * *

1. You may possess only approved nontoxic shot while in the field..

* * * * *

Currituck National Wildlife Refuge

A. Hunting of Migratory Game Birds. We allow hunting of swans, geese, ducks, and coots on designated areas of the refuge subject to the following conditions:

1. We require permits.

2. Hunting must be from assigned blind location.

3. We allow hunting on Wednesdays and Saturdays during the North Carolina waterfowl season.

4. We allow hunting from ½ hour before sunrise to 1 p.m.

5. We allow access 1½ hours before legal shooting time, and all parties must be off the refuge by 3 p.m.

B. Upland Game Hunting. [Reserved]

C. Big Game Hunting. [Reserved]

D. Sport Fishing. [Reserved]

* * * * *

Mattamuskeet National Wildlife Refuge

A. Hunting of Migratory Game Birds. We allow hunting of swans, geese, ducks, and coots on designated areas of the refuge subject to the following conditions:

1. We require permits.

2. We allow taking of Canada geese only during the special September season for resident Canada geese.

3. Any person entering, using, or occupying the refuge for hunting must abide by all the terms and conditions in the refuge hunting brochure.

* * * * *

C. Big Game Hunting. * * *

* * * * *

2. Any person entering, using, or occupying the refuge for hunting must abide by all the terms and conditions in the refuge hunting brochure.

D. Sport Fishing. We allow fishing and crabbing on designated areas of the refuge subject to the following conditions:

1. We allow fishing and crabbing from March 1 through November 1 from ½ hour before sunrise to ½ hour after sunset or as posted.

2. We allow bank fishing and crabbing year-round along Highway 94 Causeway and in the immediate vicinity of the Lake Landing water control structure, the Rose Bay water control structure, and the Outfall Canal water control structure. Other areas open to this activity are the Central Canal and East and West Main Canal as signed. We allow bank fishing and crabbing from ½ hour before sunrise to ½ hour after sunset except that the Highway 94 Causeway is open to fishing and crabbing 24 hours per day.

3. You may not dip herring (alewife).

4. You must attend all fish lines and crabbing equipment. We restrict crabbing equipment to 5 handlines and/or hand-activated traps per person. The catch/possession limit is 12 blue crabs per day per person.

5. We do not permit airboats, sailboats, wind surfers, and personal watercraft.

6. We prohibit bank fishing along the entrance road from Highway 94 to the Refuge Headquarters.

* * * * *

Pocosin Lakes National Wildlife Refuge

A. Hunting of Migratory Game Birds. We allow hunting of ducks, snow geese, swans, doves, woodcock, rails, and snipe on designated areas of the refuge subject to the following conditions:

1. We allow access 1½ hours before and after legal shooting time.

2. You must unload and encase firearms while transporting them by vehicle or boat under power.

3. We allow only portable blinds and temporary blinds constructed of natural materials. We require removal of portable blinds following each day's hunt.

4. We allow hunting during the State season.

B. Upland Game Hunting. We allow hunting of quail, squirrel, raccoon, opossum, rabbit, and fox on designated areas of the refuge subject to the following conditions:

1. We require permits for any night hunting.

2. We allow access 1½ hours before and after legal shooting time.

3. You must unload and encase firearms while transporting them by a vehicle or boat under power.

4. We allow hunting during the State season except we will close opossum and raccoon hunting during the State bear season including 5 days before and after that season.

5. You must wear 500 square inches (3250 cm²) of fluorescent orange material above the waist, visible from all directions.

6. We prohibit possession of buckshot or slugs while hunting with dogs.

7. You may use only shotguns and/or .22 caliber rim-fire rifles for upland game hunts.

8. You may possess only approved nontoxic shot while in the field on designated areas of the refuge.

C. Big Game Hunting. We allow hunting of white-tailed deer on designated areas of the refuge subject to the following conditions:

1. You must wear 500 square inches (3250 cm²) of fluorescent orange material above the waist visible from all directions during the muzzle loading and gun seasons.

2. We allow only shotguns, muzzle-loaders, and bow and arrow for big game hunts.

3. You must unload and encase firearms while transporting them by a vehicle or boat under power.

4. We allow access 1½ hours before and after legal shooting time.

5. We allow hunting during the State season.

6. We do not allow dogs.

7. You must remove all stands from the refuge following each day's hunt. We prohibit the construction or use of permanent stands, blinds, platforms, or ladders.

8. We allow archery hunting on the Pungo Unit during the regular State archery season and from November 1 through 30. State bag limits apply.

9. We allow shotgun and muzzle-loaders on the Pungo Unit subject to the following conditions:

We require permits and allow access 1 hour before and after legal shooting time.

* * * * *

Roanoke River National Wildlife Refuge

A. Hunting of Migratory Game Birds. * * *

* * * * *

2. You may possess only approved nontoxic shot while in the field.

* * * * *

Swanquarter National Wildlife Refuge

A. Hunting of Migratory Game Birds. * * *

1. You may possess only approved nontoxic shot while in the field.

* * * * *

32. In § 32.53 North Dakota by:

a. Revising paragraph B.2. of Arrowwood National Wildlife Refuge;

b. Revising paragraphs B., C., and D. of Audubon National Wildlife Refuge;

c. Revising paragraph B.1., redesignating paragraphs B.2. and B.3. as paragraphs B.3. and B.4., and adding a new paragraph B.2. of Des Lacs National Wildlife Refuge;

d. Revising J. Clark Salyer National Wildlife Refuge;

e. Revising paragraphs A.2. and B. of Lake Alice National Wildlife Refuge;

f. Revising paragraph D. of Lake Ilo National Wildlife Refuge;

g. Revising paragraph C. of Lake Nettie National Wildlife Refuge;

h. Revising paragraph B.1. of Lake Zahl National Wildlife Refuge;

i. Revising paragraph B.1. of Long Lake National Wildlife Refuge;

j. Revising paragraph B.3. of Lostwood National Wildlife Refuge;

k. Alphabetically adding Stewart Lake National Wildlife Refuge;

l. Revising paragraphs B., C., and D. of Tewaukon National Wildlife Refuge; and

m. Revising paragraphs B., C., and D. of Upper Souris National Wildlife Refuge to read as follows:

§ 32.53 North Dakota.

* * * * *

Arrowwood National Wildlife Refuge

* * * * *

B. Upland Game Hunting. * * *

* * * * *

2. You may possess only approved nontoxic shot while in the field.

* * * * *

Audubon National Wildlife Refuge

* * * * *

B. Upland Game Hunting. We allow hunting of ring-necked pheasant, gray partridge, and sharp-tailed grouse on designated areas of the refuge subject to State regulations with refuge restrictions as posted.

C. Big Game Hunting. We allow hunting of white-tailed and mule deer on designated areas of the refuge subject to State regulations with refuge restrictions as posted.

D. Sport Fishing. We allow ice fishing on designated areas of the refuge subject to State regulations with refuge restrictions as posted.

* * * * *

Des Lacs National Wildlife Refuge

* * * * *

B. Upland Game Hunting. * * *

1. You may possess only approved nontoxic shot while in the field.

2. You may use falconry for upland game hunting.

* * * * *

J. Clark Salyer National Wildlife Refuge

A. Hunting of Migratory Game Birds. We allow hunting of geese, ducks, and coots on designated areas of the refuge.

B. Upland Game Hunting. We allow hunting of pheasant, partridge, grouse, turkey, and fox on designated areas of the refuge subject to the following conditions:

1. Fox hunting opens annually on the day following the close of the regular firearm deer season and closes on March 31.

2. We close fox hunting from ½ hour after sunset until ½ hour before sunrise.

3. You may possess only approved nontoxic shot while in the field.

C. Big Game Hunting. We allow hunting of white-tailed deer on designated areas of the refuge subject to the following condition: We require permits.

D. Sport Fishing. We allow sport fishing on designated areas of the refuge as per State law with certain restrictions as posted.

Lake Alice National Wildlife Refuge

A. Hunting of Migratory Game Birds. * * *

* * * * *

2. Waterfowl and coot hunters may possess only approved nontoxic shot while in the field.

B. Upland Game Hunting. We allow hunting of upland game and fox on designated areas of the refuge subject to the following condition: You may possess only approved nontoxic shot while in the field.

* * * * *

Lake Ilo National Wildlife Refuge

* * * * *

D. Sport Fishing. We allow sport fishing on designated areas of the refuge subject to State regulations with refuge restrictions as posted.

Lake Nettie National Wildlife Refuge

* * * * *

C. Big Game Hunting. We allow hunting of white-tailed and mule deer on designated areas of the refuge subject to State regulations with refuge restrictions as posted.

* * * * *

Lake Zahl National Wildlife Refuge

* * * * *

B. Upland Game Hunting. * * *

1. You may possess only approved nontoxic shot while in the field.

* * * * *

Long Lake National Wildlife Refuge

* * * * *

B. Upland Game Hunting. * * *

1. You may possess only approved nontoxic shot while in the field.

* * * * *

Lostwood National Wildlife Refuge

* * * * *

B. Upland Game Hunting. * * *

* * * * *

3. You may possess only approved nontoxic shot while in the field.

* * * * *

Stewart Lake National Wildlife Refuge

A. Hunting of Migratory Game Birds. [Reserved]

B. Upland Game Hunting. [Reserved]

C. Big Game Hunting. [Reserved]

D. Sport Fishing. We allow fishing on the designated area subject to all State regulations.

Tewaukon National Wildlife Refuge

* * * * *

B. Updland Game Hunting. We allow hunting of ring-necked pheasants on designated areas of the refuge as per State law with certain restrictions as posted.

C. Big Game Hunting. We allow hunting of white-tailed deer on designated areas of the refuge as per State law with certain restrictions as posted.

D. Sport Fishing. We allow sport fishing on designated areas of the refuge as per State law with certain restrictions as posted.

Upper Souris National Wildlife Refuge

* * * * *

B. Upland Game Hunting. We allow hunting of upland game birds with approved nontoxic shot on designated areas of the refuge as per State law with certain restrictions as posted.

C. Big Game Hunting. We allow hunting of deer on designated areas of the refuge as per State law with certain restrictions as posted.

D. Sport Fishing. We allow fishing on designated areas of the refuge as per State law with certain restrictions as posted.

33. In § 32.54 Ohio by revising Ottawa National Wildlife Refuge to read as follows:

§ 32.54 Ohio.

* * * * *

Ottawa National Wildlife Refuge

A. Hunting of Migratory Game Birds. We allow hunting of geese and ducks on designated areas of the refuge subject to the following conditions:

1. We require permits.

2. You may possess only approved nontoxic shot while in the field.

B. Upland Game Hunting. [Reserved]

C. Big Game Hunting. We allow hunting of white-tailed deer on designated areas of the refuge subject to the following conditions:

1. We require permits.

2. You must check in and out of the refuge each day that you hunt.

3. You may not shoot from refuge roads.

D. Sport Fishing. We allow sport fishing on designated areas of the refuge subject to the following conditions:

1. We allow fishing during daylight hours only and during designated dates.

2. We do not allow boats or flotation devices.

34. In § 32.55 Oklahoma by:

a. Revising paragraph B.3. of Deep Fork National Wildlife Refuge;

b. Revising paragraph B.4. of Little River National Wildlife Refuge;

c. Revising paragraphs A.1. and B.1. of Salt Plains National Wildlife Refuge;

d. Revising paragraphs A.2. and B.2. of Sequoyah National Wildlife Refuge;

e. Revising paragraph A.3. of Tishomingo National Wildlife Refuge; and

f. Revising paragraphs A., B.1., D.1., and D.3. of Washita National Wildlife Refuge to read as follows:

§ 32.55 Oklahoma.

* * * * *

Deep Fork National Wildlife Refuge

* * * * *

B. Upland Game Hunting. * * *

* * * * *

3. You may use only shotguns with #4 or smaller shot. You may possess only approved nontoxic shot while in the field.

* * * * *

Little River National Wildlife Refuge

* * * * *

B. Upland Game Hunting. * * *

* * * * *

4. You may possess only approved nontoxic shot while in the field.

* * * * *

Salt Plains National Wildlife Refuge

A. Hunting of Migratory Game Birds. * * *

1. You may possess only approved nontoxic shot while in the field.

* * * * *

B. Upland Game Hunting. * * *

1. You may possess only approved nontoxic shot while in the field.

* * * * *

Sequoyah National Wildlife Refuge

A. Hunting of Migratory Game Birds. * * *

* * * * *

2. You may possess only approved nontoxic shot while in the field.

* * * * *

B. Upland Game Hunting. * * *

* * * * *

2. You may possess only approved nontoxic shot while in the field.

* * * * *

Tishomingo National Wildlife Refuge

A. Hunting of Migratory Game Birds. * * *

* * * * *

3. You may possess only approved nontoxic shot while in the field.

* * * * *

Washita National Wildlife Refuge

A. Hunting of Migratory Game Birds. We allow hunting of geese and sandhill cranes on designated areas of the refuge subject to the following conditions: We require permits and payment of a fee.

B. Upland Game Hunting. * * *

1. We only allow shotguns.

* * * * *

D. Sport Fishing. * * *

1. Anglers may fish from March 15 through October 14 in the Washita River and Foss Reservoir. Anglers may bank fish year round in the Washita River and Foss Reservoir from open areas.

* * * * *

3. We do not allow boats and other flotation devices on refuge waters from October 15 through March 14.

* * * * *

35. In § 32.56 Oregon by:

a. Revising paragraph A. of Bandon Marsh National Wildlife Refuge;

b. Removing Baskett Slough National Wildlife Refuge;

c. Revising paragraphs A.6. and B.3. of Cold Springs National Wildlife Refuge;

d. Revising paragraphs A.2. and B.2. of Deer Flat National Wildlife Refuge;

e. Alphabetically adding Julia Butler Hansen Refuge for the Columbian White-Tailed Deer;

f. Revising paragraph A.2. of Klamath Forest National Wildlife Refuge;

g. Revising paragraphs A. and D. of Lewis and Clark National Wildlife Refuge;

h. Revising paragraphs A.4. and B.2. of Lower Klamath National Wildlife Refuge;

i. Revising paragraphs A.2. and B.3. of Malheur National Wildlife Refuge;

j. Revising paragraphs A.7. and B.3. of McKay Creek National Wildlife Refuge;

k. Revising Umatilla National Wildlife Refuge; and

l. Revising paragraph A.2. of Upper Klamath National Wildlife Refuge to read as follows:

§ 32.56 Oregon.

* * * * *

Bandon Marsh National Wildlife Refuge

A. Hunting of Migratory Game Birds. We allow hunting of geese, ducks, coots, snipe, doves, and pigeons on designated areas of the refuge subject to the following condition: Waterfowl and snipe hunters may possess only approved nontoxic shot while in the field.

* * * * *

Cold Springs National Wildlife Refuge

A. Hunting of Migratory Game Birds. * * *

* * * * *

6. Waterfowl and snipe hunters may possess only approved nontoxic shot while in the field.

* * * * *

B. Upland Game Hunting. * * *

* * * * *

3. You may possess only approved nontoxic shot while in the field.

* * * * *

Deer Flat National Wildlife Refuge

A. Hunting of Migratory Game Birds. * * *

* * * * *

2. Waterfowl and snipe hunters may possess only approved nontoxic shot while in the field.

* * * * *

B. Upland Game Hunting. * * *

* * * * *

2. Pheasant, quail, and partridge hunters may possess only approved nontoxic shot while in the field.

* * * * *

Julia Butler Hansen Refuge for the Columbian White-Tailed Deer

A. Hunting of Migratory Game Birds. We allow hunting of geese, ducks, coots, and common snipe on the Wallace Island Unit subject to the following condition: You may possess only approved nontoxic shot while in the field.

B. Upland Game Hunting. [Reserved]

C. Big Game Hunting. [Reserved]

D. Sport Fishing. We allow sport fishing along the shoreline of the Wallace Island Unit in accordance with State regulations.

Klamath Forest National Wildlife Refuge

A. Hunting of Migratory Game Birds. * * *

* * * * *

2. Waterfowl and snipe hunters may possess only approved nontoxic shot while in the field.

* * * * *

Lewis and Clark National Wildlife Refuge

A. Hunting of Migratory Game Birds. We allow hunting of geese, ducks, coots, and common snipe on designated areas of the refuge subject to the following conditions:

1. You may possess only approved nontoxic shot while in the field.

2. We do not allow hunting on all exposed lands on Miller Sands Island and its partially enclosed lagoon, as posted. We do not allow hunting inside the diked portion of Karlson Island, as posted.

* * * * *

D. Sport Fishing. We allow sport fishing along the shoreline of the refuge islands in accordance with State regulations.

Lower Klamath National Wildlife Refuge

A. Hunting of Migratory Game Birds. * * *

* * * * *

4. Waterfowl and snipe hunters may possess only approved nontoxic shot while in the field.

B. Upland Game Hunting. * * *

* * * * *

2. You may possess only approved nontoxic shot while in the field.

* * * * *

Malheur National Wildlife Refuge

A. Hunting of Migratory Game Birds. * * *

* * * * *

2. You may possess only approved nontoxic shot while in the field.

* * * * *

B. Upland Game Hunting. * * *

* * * * *

3. You may possess only approved nontoxic shot while in the field on designated areas east of Highway 205.

* * * * *

McKay Creek National Wildlife Refuge

A. Hunting of Migratory Game Birds. * * *

* * * * *

7. Waterfowl and snipe hunters may possess only approved nontoxic shot while in the field.

B. Upland Game Hunting. * * *

* * * * *

3. You may possess only approved nontoxic shot while in the field.

* * * * *

Umatilla National Wildlife Refuge

A. Hunting of Migratory Game Birds. We allow hunting of geese, ducks, coots, and common snipe on designated areas of the refuge subject to the following conditions:

1. The refuge is open from 4:00 a.m. to 1½ hours after sunset except for the Hunter Check Station parking lot at the McCormack Unit, which is open each morning 2 hours prior to State shooting hours for waterfowl. We do not allow decoys, boats, and other personal property on the refuge following each day's hunt.

2. In the McCormack Unit, we allow hunting only on Wednesdays, Saturdays, Sundays, Thanksgiving Day, and New Year's Day.

3. We require waterfowl hunting parties in the Boardman Unit to space themselves a minimum of 200 yards (180 m) apart.

4. You may possess no more than 25 shells while in the field.

5. We require permits for hunting on the McCormack Unit.

6. You may possess only approved nontoxic shot while in the field.

B. Upland Game Hunting. We allow hunting of pheasant, chukar, Hungarian partridge, and quail on designated areas of the refuge subject to the following conditions:

1. We do not allow hunting of upland game birds until noon of each hunt day.

2. In the McCormack Unit, we allow hunting only on Wednesdays, Saturdays, Sundays, Thanksgiving Day, and New Year's Day.

3. You may possess only approved nontoxic shot while in the field.

4. You may possess no more than 25 shells while in the field.

5. We require permits for hunting on the McCormack Unit.

C. Big Game Hunting. We allow hunting of deer on designated areas of the refuge subject to the following condition: Hunting is by permit only.

D. Sport Fishing. We allow fishing on designated areas of the refuge subject to the following conditions:

1. The refuge is open from 5 a.m. to 1½ hours after sunset.

2. We allow fishing on refuge impoundments and ponds from February 1 through September 30. We open other refuge waters (Columbia River and its backwaters) in accordance with State regulations.

3. We allow only nonmotorized boats and boats with electric motors on refuge impoundments and ponds.

4. We only allow fishing with hook and line.

Upper Klamath National Wildlife Refuge

A. Hunting of Migratory Game Birds. * * *

* * * * *

2. Waterfowl and snipe hunters may possess only approved nontoxic shot while in the field.

* * * * *

36. In § 32.57 Pennsylvania by revising Ohio River Islands National Wildlife Refuge to read as follows:

§ 32.57 Pennsylvania.

* * * * *

Ohio River Islands National Wildlife Refuge

Refer to § 32.68 West Virginia for regulations.

* * * * *

37. In § 32.60 South Carolina by revising paragraphs C. and D. of ACE Basin National Wildlife Refuge to read as follows:

§ 32.60 South Carolina.

* * * * *

ACE Basin National Wildlife Refuge

* * * * *

C. Big Game Hunting. We allow hunting of white-tailed deer on designated areas of the refuge subject to the following condition: We require permits.

D. Sport Fishing. Anglers may fish on the refuge in accordance with State law and as specifically designated in refuge publications.

* * * * *

38. In § 32.61 South Dakota by revising paragraph B. of Pocasse National Wildlife Refuge to read as follows:

§ 32.61 South Dakota.

* * * * *

Pocasse National Wildlife Refuge

* * * * *

B. Upland Game Hunting. We allow hunting of pheasant on designated areas of the refuge subject to the following condition: You may possess only approved nontoxic shot while in the field.

* * * * *

39. In § 32.62 Tennessee by:

a. Revising paragraphs B., C., and D. of Cross Creeks National Wildlife Refuge;

b. Revising paragraph A.4. of Hatchie National Wildlife Refuge; and

c. Revising Tennessee National Wildlife Refuge to read as follows:

§ 32.62 Tennessee.

* * * * *

Cross Creeks National Wildlife Refuge

* * * * *

B. Upland Game Hunting. We allow hunting of squirrels on designated areas of the refuge subject to the following condition: We require permits.

C. Big Game Hunting. We allow hunting of white-tailed deer and turkey on designated areas of the refuge subject to the following condition: We require permits.

D. Sport Fishing. We allow fishing on designated areas of the refuge subject to the following conditions:

1. We allow fishing on refuge pools and reservoirs from March 15 through October 31 from sunrise to sunset.

2. We do not allow bows and arrows, trotlines, limblines, jugs, and slat baskets in refuge pools and reservoirs.

3. We do not allow taking of frogs.

4. The length limit for largemouth bass taken from Elk and South Cross Creeks' reservoirs is less than 12 inches (30 cm) and more than 15 inches (37.5 cm). Anglers must immediately release unharmed largemouth bass from 12 inches (30 cm) to 15 inches (37.5 cm). We prohibit possession of largemouth bass between 12 inches (30 cm) and 15 inches (37.5 cm).

Hatchie National Wildlife Refuge

A. Hunting of Migratory Game Birds. * * *

* * * * *

4. You may possess only approved nontoxic shot while in the field.

* * * * *

Tennessee National Wildlife Refuge

A. Hunting of Migratory Game Birds. [Reserved]

B. Upland Game Hunting. We allow hunting of squirrels and raccoons on designated areas of the refuge subject to the following conditions:

1. We require permits.

2. You must unload and encase or dismantle firearms transported in motor vehicles.

C. Big Game Hunting. We allow hunting of white-tailed deer and turkey on designated areas of the refuge subject to the following conditions:

1. We require permits.

2. You must unload and encase or dismantle firearms transported in motor vehicles.

D. Sport Fishing. We allow fishing on designated portions of the refuge subject to the following conditions:

1. We close impounded waters to fishing from November 1 through March 14.

2. We close Swamp Creek, Britton Ford, and Bennett's Creek embayments to fishing and boating from November 1 through March 14.

3. Anglers must launch boats from designated access points only. We restrict boats to “slow speed/minimum wake” on all refuge impoundments open to fishing.

4. Anglers may not leave boats on the refuge overnight.

40. In § 32.63 Texas by:

a. Revising paragraph B.3. of Buffalo Lake National Wildlife Refuge; and

b. Revising Hagerman National Wildlife Refuge to read as follows:

§ 32.63 Texas.

* * * * *

Buffalo Lake National Wildlife Refuge

* * * * *

B. Upland Game Hunting. * * *

* * * * *

3. You may possess only approved nontoxic shot while in the field.

* * * * *

Hagerman National Wildlife Refuge

A. Hunting of Migratory Game Birds. We allow hunting of mourning doves in the month of September on designated areas of the refuge, subject to the following conditions:

1. We require you to check in and out of the hunt area.

2. We allow only shotguns.

3. You may possess no shot larger than #4 on the hunting area.

B. Upland Game Hunting. We allow hunting of quail in the month of February and squirrel and rabbit in the months of February and September on designated areas of the refuge subject to the following conditions:

1. We require you to check in and out of the hunt area.

2. We allow only shotguns.

3. You may possess no shot larger than #4 on the hunting area.

4. You must plug shotguns to hold no more than three shells during the September dove season.

C. Big Game Hunting. We allow hunting of white-tailed deer and feral hogs on designated areas of the refuge subject to the following conditions:

1. You may archery hunt as listed in the refuge hunt information sheet. You must obtain a refuge permit and pay a hunt fee.

2. We allow hunting with firearms including shotguns, 20 gauge or larger, loaded with rifled slug during a special youth hunt as listed in the refuge hunt information sheet. We require permits.

D. Sport Fishing. We allow fishing on designated areas of the refuge subject to the following conditions:

1. Lake Texoma and connected streams are open to fishing year round.

2. We allow fishing in ponds and stock tanks from April 1 through September 30.

3. Fishermen may string trotlines between anchored floats only. We do not allow lines attached to rubber bands, sticks, poles, trees, or other fixed objects in refuge ponds or impoundments.

4. We do not allow fishing from bridges or roadways.

5. We do not allow boats and other flotation devices on the waters of Lake Texoma from October 1 through March 31, or at any time on refuge ponds and impoundments.

* * * * *

41. In § 32.64 Utah by:

a. Revising paragraphs A.2. and B.1. of Bear River Migratory Bird Refuge; and

b. Revising paragraph B. of Ouray National Wildlife Refuge to read as follows:

§ 32.64 Utah.

* * * * *

Bear River Migratory Bird Refuge

A. Hunting of Migratory Game Birds. * * *

* * * * *

2. You may possess only approved nontoxic shot while in the field.

* * * * *

B. Upland Game Hunting. * * *

1. You may possess only approved nontoxic shot while in the field.

* * * * *

Ouray National Wildlife Refuge

* * * * *

B. Upland Game Hunting. We allow hunting of pheasant on designated areas of the refuge subject to the following condition: You may possess only approved nontoxic shot while in the field.

* * * * *

42. In § 32.65 Vermont by revising paragraph B.4. of Missisquoi National Wildlife Refuge to read as follows:

§ 32.65 Vermont.

* * * * *

Missisquoi National Wildlife Refuge

* * * * *

B. Upland Game Hunting. * * *

* * * * *

4. Shotgun hunters may possess only approved nontoxic shot while in the field.

* * * * *

43. In § 32.66 Virginia by:

a. Revising Chincoteague National Wildlife Refuge; and

b. Alphabetically adding Plum Tree Island National Wildlife Refuge to read as follows:

§ 32.66 Virginia.

* * * * *

Chincoteague National Wildlife Refuge

A. Hunting of Migratory Game Birds. We allow hunting of waterfowl and rails on designated areas of the refuge subject to the following conditions:

1. You must possess written permission to hunt in the nonguided public hunting areas.

2. On Wildcat Marsh we reserve compartments 1-4 for guided hunting only with refuge-designated commercial guides.

B. Upland Game Hunting. [Reserved]

C. Big Game Hunting. We allow hunting of white-tailed and sika deer in designated areas of the refuge subject to the following condition: We require a refuge permit.

D. Sport Fishing. We allow fishing, crabbing, and clamming on designated areas of the refuge subject to the following conditions:

1. We allow sport fishing, crabbing, and clamming in salt water areas and in that portion of Swan Cove adjacent to Beach Road. We close all other refuge ponds, impoundments, and channels to these activities.

2. You must attend traps and crab pots.

3. You must obtain a permit to remain on the refuge after normal closing hours.

* * * * *

Plum Tree Island National Wildlife Refuge

A. Hunting of Migratory Game Birds. We allow hunting of waterfowl on designated areas of the refuge subject to the following conditions:

1. We require permits.

2. Waterfowl hunters may possess only approved nontoxic shot while in the field.

B. Upland Game Hunting. [Reserved]

C. Big Game Hunting. [Reserved]

D. Sport Fishing. [Reserved]

* * * * *

44. In § 32.67 Washington by:

a. Revising Columbia National Wildlife Refuge, Julia Butler Hansen Refuge for the Columbian White-Tailed Deer, and Willapa National Wildlife Refuge;

b. Revising paragraph A. of Conboy Lake National Wildlife Refuge;

c. Deleting paragraphs A.6. and B.6., revising the introductory text of paragraph B., and revising paragraphs A.3. and B.3. of McNary National Wildlife Refuge;

d. Revising paragraphs A.5. and B.2. of Toppenish National Wildlife Refuge; and

e. Removing paragraphs A.6. and B.4. of Umatilla National Wildlife Refuge to read as follows:

§ 32.67 Washington.

* * * * *

Columbia National Wildlife Refuge

A. Hunting of Migratory Game Birds. We allow hunting of geese, ducks, coots, and common snipe on designated areas of the refuge subject to the following conditions:

1. In Marsh Unit 1, we allow hunting only on Wednesdays, Saturdays, and Sundays.

2. Waterfowl and snipe hunters may possess only approved nontoxic shot while in the field.

3. In Marsh Unit 1, concurrent with the State's designated Youth Day prior to the opening of the waterfowl hunt, only youth aged 10-17 and an accompanying adult aged 18 or over may hunt.

B. Upland Game Hunting. We allow hunting of pheasant, quail, and partridge on designated areas of the refuge subject to the following conditions:

1. We allow hunting of upland game birds only during State seasons that run concurrently with the State waterfowl season.

2. We allow only shotguns and bows and arrows.

3. Upland game bird hunters may possess only approved nontoxic shot while in the field.

4. In Marsh Unit 1, concurrent with the State's designated Youth Day prior to the opening of the waterfowl hunt, only youth aged 10-17 and an accompanying adult aged 18 or over may hunt.

C. Big Game Hunting. We allow hunting of deer on designated areas of the refuge subject to the following condition: We allow only shotgun and archery hunting.

D. Sport Fishing. We allow fishing on designated areas of the refuge subject to the following conditions:

1. We allow nonmotorized boats and boats with electric motors on Upper and Lower Hampton, Hutchinson, Royal, and Shiner Lakes.

2. We allow motorized boats and nonmotorized boats on all other refuge waters open to fishing.

3. We prohibit the taking of bullfrogs.

Conboy Lake National Wildlife Refuge

A. Hunting of Migratory Game Birds. We allow hunting of doves, geese, ducks, coots, and common snipe on designated areas of the refuge subject to the following condition: Waterfowl and snipe hunters may possess only approved nontoxic shot while in the field.

* * * * *

Julia Butler Hansen Refuge for the Columbian White-Tailed Deer

A. Hunting of Migratory Game Birds. We allow hunting of geese, ducks, coots, and common snipe on the Hunting Island Unit subject to the following condition: You may possess only approved nontoxic shot while in the field.

B. Upland Game Hunting. [Reserved]

C. Big Game Hunting. [Reserved]

D. Sport Fishing. We allow bank fishing from the Mainland Unit shoreline adjoining the Elochoman and Columbia Rivers as well as Steamboat and Brooks Sloughs, in accordance with State fishing regulations. We also allow bank fishing in the pond adjacent to the diking district pumping station by Brooks Slough. We close all other interior water of the Mainland Unit to fishing.

* * * * *

McNary National Wildlife Refuge

A. Hunting of Migratory Game Birds. * * *

* * * * *

3. Waterfowl and snipe hunters may possess only approved nontoxic shot while in the field.

* * * * *

B. Upland Game Hunting. We allow hunting of pheasant, quail, chukar, and Hungarian partridge on designated areas of the refuge subject to the following conditions:

* * * * *

3. You may possess only approved nontoxic shot while in the field.

* * * * *

Toppenish National Wildlife Refuge

A. Hunting of Migratory Game Birds. * * *

* * * * *

5. Waterfowl and snipe hunters may possess only approved nontoxic shot while in the field.

* * * * *

B. Upland Game Hunting. * * *

* * * * *

2. You may possess only approved nontoxic shot while in the field.

* * * * *

Umatilla National Wildlife Refuge

A. Hunting of Migratory Game Birds. * * *

* * * * *

6. Waterfowl and snipe hunters may possess only approved nontoxic shot while in the field.

B. Upland Game Hunting. * * *

* * * * *

4. Upland game bird hunters may possess only approved nontoxic shot while in the field.

* * * * *

Willapa National Wildlife Refuge

A. Hunting of Migratory Game Birds. We allow hunting of geese, ducks, and coots on designated areas of the Riekkola and Lewis Units, in accordance with State hunting regulations and subject to the following conditions:

1. At the Riekkola Unit, prior to entering the hunt area, we require you to obtain a permit, pay a recreation user fee, and obtain a blind assignment.

2. At the Riekkola Unit you may take ducks and coots only coincidental to hunting geese. We do not allow exclusive hunting of ducks in the Riekkola Unit.

3. We allow hunting in the Riekkola Unit only from established blinds on Wednesdays and Saturdays.

4. At the Riekkola Unit you may possess and use no more than 24 shells per day while in the field.

5. You may possess only approved nontoxic shotgun shells.

B. Upland Game Hunting. We allow hunting of blue and ruffed grouse on Long Island, subject to the following conditions:

1. We require you to obtain and carry a refuge permit and report game taken, as specified with the permit.

2. We allow only archery hunting.

3. We do not allow firearms on Long Island at any time.

4. We do not allow dogs on Long Island.

C. Big Game Hunting. We allow hunting for deer, elk, and bear on Long Island, subject to the following conditions:

1. We require you to obtain and carry a refuge permit and report game taken, as specified with the permit.

2. We allow only archery hunting.

3. We do not allow firearms on Long Island at any time.

4. We do not allow dogs on Long Island.

D. Sport Fishing. We allow fishing along the shoreline of the refuge in accordance with State regulations.

45. In § 32.68 West Virginia by:

a. Revising paragraph B.2. of Canaan Valley National Wildlife Refuge; and

b. Revising paragraph B.4. of Ohio River Islands National Wildlife Refuge to read as follows:

§ 32.68 West Virginia.

* * * * *

Canaan Valley National Wildlife Refuge

* * * * *

B. Upland Game Hunting. * * *

* * * * *

2. Shotgun hunters may possess only approved nontoxic shot while hunting on the refuge.

* * * * *

Ohio River Islands National Wildlife Refuge

* * * * *

B. Upland Game Hunting. * * *

* * * * *

4. You may possess only approved nontoxic shot while in the field.

* * * * *

46. In § 32.69 Wisconsin by:

a. Revising paragraph C. of Fox River National Wildlife Refuge;

b. Revising Horicon National Wildlife Refuge and Necedah National Wildlife Refuge; and

c. Alphabetically adding St. Croix Wetland Management District to read as follows:

§ 32.69 Wisconsin.

* * * * *

Fox River National Wildlife Refuge

* * * * *

C. Big Game Hunting. We allow hunting of white-tailed deer on designated areas of the refuge subject to the following conditions:

1. We require permits.

2. We do not allow the construction or use of blinds, platforms, or ladders.

3. We allow hunting only during the State firearms season and during a designated time period of the archery season.

* * * * *

Horicon National Wildlife Refuge

A. Hunting of Migratory Game Birds. We allow hunting of ducks and coots on designated areas of the refuge subject to the following conditions:

1. We require permits.

2. We allow only participants in the Young Wildfowlers and Special Programs to hunt.

B. Upland Game Hunting. We allow hunting of ring-necked pheasant, gray partridge, squirrel, and cottontail rabbit on designated areas of the refuge from the opening of the respective State seasons through the State deer firearms season, and subject to the following conditions:

1. Shotgun hunters may possess only approved nontoxic shot while hunting upland game species.

2. Hunting in the youth/novice pheasant hunt area (Area F) is for youth who are 12-15 years of age, and by permit.

C. Big Game Hunting. We allow hunting of white-tailed deer on designated areas of the refuge subject to the following conditions:

1. We allow hunting only during the early archery and State firearms season.

2. We do not allow the construction and use of permanent blinds, platforms, or ladders.

3. You must remove all stands from the refuge following each day's hunt.

4. Hunting in the area surrounding the office/visitor center (Area E) is by permit only.

5. Hunting in the auto tour/hiking trail complex (Area D) is open only during the State firearms deer season.

D. Sport Fishing. We allow fishing on designated areas of the refuge subject to the following conditions:

1. We allow fishing from April 15 through September 15.

2. We allow only bank fishing.

* * * * *

Necedah National Wildlife Refuge

A. Hunting of Migratory Game Birds. We allow hunting of migratory game birds only on designated areas of the refuge.

B. Upland Game Hunting. We allow hunting of wild turkey, ruffed grouse, gray squirrel, fox squirrel, cottontail rabbit, snowshoe hare, and raccoon only on designated areas of the refuge subject to the following conditions:

1. You may possess only unloaded guns in the retrieval zone of Refuge Area 7 during the State waterfowl hunting season, except while hunting deer during the gun deer season.

2. During the spring turkey hunting season only, persons possessing a valid State spring turkey permit may enter and hunt wild turkeys in all open refuge areas.

3. Refuge Area 3 is open to hunting after the State deer gun season through the end of the respective State seasons or until February 28, whichever occurs first.

4. You may use dogs only when hunting small game and waterfowl.

C. Big Game Hunting. We allow hunting of white-tailed deer on designated areas of the refuge subject to the following conditions:

1. We prohibit the possession of a loaded rifle or shotgun within 50 feet (15 m) of the centerline of all paved or graveled roads and designated trails, or discharging these weapons from, across, down, or alongside these roads and trails within the refuge.

2. We do not allow the construction of permanent blinds, platforms, or ladders.

3. You may use portable elevated devices but must lower them to ground level at the close of shooting hours each day. You must remove all blinds, stands, platforms, and ladders from the refuge at the end of the hunting season.

4. Refuge Areas 1, 2, 4, 5, 6, and 7 are open to deer hunting.

5. Refuge Area 3 is open to deer hunting during the State gun, muzzleloader, and late archery seasons. Unarmed deer hunters may enter Area 3 to scout beginning the Saturday prior to the gun deer season.

6. We do not allow target or practice shooting.

7. We prohibit the use of flagging, paint, blazes, tacks, or other types of markers.

D. Sport Fishing. We allow fishing in designated waters of the refuge at designated times subject to the following conditions: We allow use of nonmotorized boats in Sprague-Goose Pools only when these pools are open to fishing. We allow motorized boats in Suk Cerney Pool.

St. Croix Wetland Management District

A. Hunting of Migratory Game Birds. We allow hunting of migratory game birds throughout the district except that you may not hunt on designated portions of the St. Croix Prairie Waterfowl Production Area in St. Croix County or on the Oakridge Waterfowl Production Area in St. Croix County.

B. Upland Game Hunting. We allow hunting of upland game throughout the district except that you may not hunt on designated portions of the St. Croix Prairie Waterfowl Production Area in St. Croix County or on the Oakridge Waterfowl Production Area in St. Croix County.

C. Big Game Hunting. We allow hunting of big game throughout the district except that you may not hunt on designated portions of the St. Croix Prairie Waterfowl Production Area in St. Croix County.

D. Sport Fishing. [Reserved]

* * * * *

47. In § 32.70 Wyoming by:

a. Revising paragraph B. of Pathfinder National Wildlife Refuge; and

b. Revising paragraph B. of Seedskadee National Wildlife Refuge to read as follows:

§ 32.70 Wyoming.

* * * * *

Pathfinder National Wildlife Refuge

* * * * *

B. Upland Game Hunting. We allow hunting of sage grouse and cottontail rabbit on designated areas of the refuge subject to the following condition: You may possess only approved nontoxic shot while in the field.

* * * * *

Seedskadee National Wildlife Refuge

* * * * *

B. Upland Game Hunting. We allow hunting of sage grouse and cottontail rabbit on designated are as of the refuge subject to the following condition: You may possess only approved nontoxic shot while in the field.

* * * * *

48. In § 32.71 by revising the section heading and removing the listings of Guam National Wildlife Refuge and Kilauea Point National Wildlife Refuge to read as follows:

§ 32.71 United States Unincorporated Pacific Insular Possessions.

* * * * *

49. By adding § 32.72 to Subpart B to read as follows:

§ 32.72 Guam.

We have opened the following refuge unit to hunting and/or fishing with applicable refuge-specific regulations.

Guam National Wildlife Refuge

A. Hunting of Migratory Game Birds. [Reserved]

B. Upland Game Hunting. [Reserved]

C. Big Game Hunting. [Reserved]

D. Sport Fishing. Anglers may fish and collect marine life on designated areas of the Refuge only in accordance with the Refuge Fishing Regulations leaflet available at Refuge Headquarters. We prohibit the use of gill nets for catching reef fish.

Dated: April 11, 2000.
Stephen C. Saunders,
Assistant Secretary for Fish and Wildlife and Parks

[FR Doc. 00-11410 Filed 5-11-00; 8:45 am]

BILLING CODE 4310-55-P